POSTAL SERVICE

Change in Rates and Classes of General Applicability for Competitive Products

AGENCY: Postal Service.

ACTION: Notice of a change in rates of general applicability for competitive products.

SUMMARY: This notice sets forth changes in rates of general applicability for competitive products.

DATES: Effective Date: January 22, 2012.

FOR FURTHER INFORMATION CONTACT: Daniel J. Foucheaux, Jr., (202) 268-2989.

SUPPLEMENTARY INFORMATION: On October 18, 2011, pursuant to their authority under 39 U.S.C. 3632, the Governors of the Postal Service established prices and classification changes for competitive products. The Governors' Decision and the record of proceedings in connection with such decision are reprinted below in accordance with section 3632(b)(2).

Stanley F. Mires,
Attorney, Legal Policy & Legislative Advice.

Decision of the Governors of the United States Postal Service on Changes in Rates and Classes of General Applicability for Competitive Products (Governors' Decision No. 11-8)

October 18, 2011

Statement of Explanation and Justification

Pursuant to our authority under section 3632 of title 39, as amended by the Postal Accountability and Enhancement Act of 2006 (“PAEA”), we establish new prices of general applicability for the Postal Service's shipping services (competitive products), and such changes in classifications as are necessary to define the new prices. The changes are described generally below, with a detailed description of the changes in the attachment. The attachment includes the draft Mail Classification Schedule sections with changes in classification language in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3015.7(c), requires competitive products to contribute a minimum of 5.5 percent to the Postal Service's institutional costs. Accordingly, no issue of subsidization of competitive products by market dominant products should arise (39 U.S.C. 3633(a)(1)). We therefore find that the new prices and classification changes are in accordance with 39 U.S.C. 3632-3633 and 39 CFR 3015.2.

I. Domestic Products

A. Express Mail

Overall, the Express Mail price change represents a 3.3 percent increase. The existing structure of zoned Retail, Commercial Base and Commercial Plus price categories is maintained. New for January 2012, we will be introducing a Flat Rate Box, priced at $39.95 across all channels.

Retail prices will increase an average of 4.4 percent. The price for the Retail Flat Rate Envelope and Legal Flat Rate Envelope, a significant portion of all Express Mail volume, is increasing 3.6 percent to $18.95.

The Commercial Base price category offers lower prices to customers who use online and other authorized postage payment methods. The Commercial Base prices will decrease 5.0 percent.

The Commercial Plus price category offers even lower prices to large-volume customers. Commercial Plus prices, as a whole, will receive a zero percent increase, although some prices will increase and other prices will decrease.

B. Priority Mail

Overall, Priority Mail prices will increase by 3.1 percent. However, the price increase varies by rate cell and price tier. The existing structure of Retail, Commercial Base, and Commercial Plus price categories is maintained.

Retail prices will increase an average of 3.2 percent. Flat Rate Box prices will be: Small, $5.35; Medium, $11.35; Large, $15.45; and Large APO/FPO/DPO, $13.45. The regular Flat Rate Envelope will be priced at $5.15, with the Legal Size and Padded Flat Rate Envelopes priced at $5.30 at retail.

The Commercial Base price category offers lower prices to customers using online and other authorized postage payment methods. The average price increase for Commercial Base will be 3.0 percent. A new, larger-sized Regional Rate Box price tier will be added to the two existing sizes. If deposited at retail, a $0.75 fee will be added.

The Commercial Plus price category offers even lower prices to large-volume customers. The average price increase for Commercial Plus will be 2.8 percent. This price category will continue to contain Critical Mail letters and flats, a half pound price, an assortment of Flat Rate packaging, and Commercial Plus Cubic pricing. Cubic mailers will have a reduced threshold of 150,000 pieces per year (reduced from 250,000) to qualify. Cubic mailers will also be able to use soft packaging. Finally, Open and Distribute pricing for specified trays and flat tubs will be introduced in January.

C. Parcel Select

On average, prices for Parcel Select, the Postal Service's bulk ground shipping product, will increase 8.5 percent. For destination entered parcels, the average price increases are 7.6 percent for parcels entered at a destination delivery unit (DDU), 7.8 percent for parcels entered at a destination plant (DSCF) and 6.8 percent for parcels entered at a destination Network Distribution Center (DNDC).

For nondestination-entered parcels, the average price increases are 1.5 percent for Origin Network Distribution Center (ONDC) presort, 0.9 percent for Network Distribution Center (NDC) presort, and 0.8 percent for nonpresort. The three-cent barcode discount will also be eliminated. Prices for Lightweight Parcel Select, formerly Standard Mail commercial parcels, will increase by 8.9 percent in order to complete its transfer to the competitive product list. Also, the maximum dimensions for Regional Ground will increase to accommodate any machinable parcel within this price category. Finally, in January 2012, the Intelligent Mail Package Barcode (IMpb) will provide customers with free visibility for these parcels.

D. Parcel Return Service

Parcel Return Service prices will have an overall price increase of 4.6 percent. Prices for parcels retrieved at a Return Network Distribution Center (RNDC) will have a zero percent overall increase, and prices for parcels picked up at a return delivery unit (RDU) will increase 8.9 percent. Additionally, the Postal Service's suite of returns offerings, including PRC, Merchandise Return Service, Priority Mail, First-Class mail, and Package Services, will have new “Return Service” branding.

E. Commercial First-Class Package Service

Commercial First-Class Mail parcels were recently transferred to the competitive product list, and will be renamed Commercial First-Class Package Service. This product is positioned as a lightweight (less than one pound) offering used by businesses for fulfillment purposes. Overall, Commercial First-Class Package Service prices will increase 3.7 percent, with no structural changes.

F. Domestic Extra Services

Premium Forwarding Service prices will increase 3.4 percent. The weekly reshipment fee will increase to $15.25. On average, Address Enhancement Service prices will increase 7.3 percent. The 49 Post Office Box locations that were added to the competitive product list in June 2010 will be joined by 6,800 additional Post Office Box locations in January 2012. Additional fee ranges for these boxes in Fee Groups 2 through 7 will be added as well. Lastly, Package Intercept service will be introduced within the Competitive Ancillary Services product, priced at $10.95.

II. International Products

A. Expedited Services

International expedited services include Global Express Guaranteed (GXG) and Express Mail International (EMI). Overall, GXG prices will rise by 6 percent, and EMI will be subject to an overall 11.6 percent increase. Classification changes include changes to published discounts. In lieu of offering an across-the-board discount for customers using approved postage payment methods, published discounts will be expanded to include rate cell-specific discounted schedules for both GXG and EMI. The commercial base discount schedules replace the current across-the-board percentage discounts for eligible shipments using selected payment methods. Customers tendering at least $100,000 in revenue per year for GXG, EMI, and Priority Mail International (PMI) may request authorization for new commercial plus discounts. We are introducing two versions of a new Express Mail International Flat Rate Box, with a maximum weight of 20 pounds. Customers pay a flat rate of $59.95 to Canada and $74.95 for all other countries that accept Express Mail International. Classification changes also include country group assignments for the country of Tonga, and changes to the dimensional limits for EMI.

B. Priority Mail International

The overall increase for Priority Mail International (PMI) will be 8.7 percent. Classification changes include the simplification of dimensional criteria for flat rate envelopes and boxes, changes to the dimensional limits for PMI, and the introduction of commercial base and commercial plus discounts as described for GXG and EMI.

C. International Priority Airmail and International Surface Air Lift

Published prices International Priority Airmail (IPA) will increase by 1.0 percent, and International Surface Air Lift (ISAL) prices will increase by 13.7 percent.

D. Airmail M-Bags

The published prices for Airmail M-Bags will increase by 3.5 percent.

E. International Ancillary Services and Special Services

Prices for several international ancillary services and paper money orders will be increased. For international ancillary services, the overall increase is 5.0 percent. Money order prices will increase by 4.7 percent.

Order

The changes in prices and classes set forth herein shall be effective at 12:01 a.m. on January 22, 2012. We direct the Secretary to have this decision published in the Federal Register in accordance with 39 U.S.C. 3632(b)(2). We also direct management to file with the Postal Regulatory Commission appropriate notice of these changes.

By The Governors:
Louis J. Giuliano
Chairman

Part B

Competitive Products

2000 Competitive Product List

* * * * *

2001 Competitive Product Descriptions

* * * * *

2100 Domestic Products

* * * * *

2105 Express Mail

* * * * *

2105.2 Size and Weight Limitations

| Length | Height | Thickness | Weight
Minimum | large enough to accommodate postage, address, and other required elements on the address side |  |  | none
Maximum | 108 inches in combined length and girth |  |  | 70 pounds
Flat Rate Envelope | Nominal Sizes: |  |  |
| Regular: 9.5 × 12.5 inches
| Legal: 9.5 × 15 inches |  |  |
| Sizes: |  |  |
Flat Rate Box | Various sizes as defined in the DMM. |  |  |
| — not to exceed .35 cu. ft. |  |  |

* * * * *

2105.5 Optional Features

The following additional services may be available in conjunction with the product specified in this section:

• Pickup On Demand Service

• Sunday/Holiday Delivery

• Ancillary Services (1505)

○ Address Correction Service (1505.1)

○ Collect On Delivery (1505.7)

○ Express Mail Insurance (1505.9)

○ Return Receipt (1505.13)

• Competitive Ancillary Services (2645)

○ Adult Signature Service (2645.1)

○ Package Intercept Service (2645.2)

2105.6 Prices

Retail Express Mail Zone/Weight

Maximum weight (pounds) | Zones 1 & 2 ($) | Zone 3 ($) | Zone 4 ($) | Zone 5 ($) | Zone 6 ($) | Zone 7 ($) | Zone 8 ($)
0.5 | 12.95 | 19.80 | 21.30 | 24.00 | 25.45 | 27.00 | 28.00
1 | 14.95 | 23.85 | 26.90 | 27.40 | 31.25 | 31.65 | 33.20
2 | 17.40 | 23.55 | 29.35 | 30.05 | 34.20 | 34.45 | 36.45
3 | 18.50 | 24.95 | 33.75 | 34.60 | 39.40 | 39.65 | 41.75
4 | 19.85 | 26.60 | 38.20 | 39.60 | 44.40 | 44.55 | 46.95
5 | 20.60 | 28.40 | 42.50 | 44.15 | 49.40 | 49.65 | 52.20
6 | 24.10 | 34.20 | 46.50 | 48.50 | 54.30 | 54.55 | 57.60
7 | 27.65 | 39.85 | 50.85 | 52.35 | 59.35 | 59.70 | 62.65
8 | 29.05 | 41.10 | 54.75 | 56.85 | 64.45 | 64.75 | 68.05
9 | 30.60 | 42.75 | 58.55 | 61.35 | 69.45 | 69.70 | 73.30
10 | 31.60 | 44.55 | 61.25 | 64.35 | 73.05 | 73.25 | 76.95
11 | 34.50 | 49.80 | 65.50 | 67.50 | 76.55 | 76.75 | 80.65
12 | 35.10 | 53.35 | 68.95 | 70.60 | 80.05 | 80.20 | 84.20
13 | 35.60 | 56.75 | 72.15 | 73.65 | 83.40 | 84.40 | 89.10
14 | 36.75 | 60.25 | 75.00 | 76.75 | 86.90 | 88.05 | 92.80
15 | 38.90 | 63.65 | 78.20 | 79.90 | 90.45 | 91.35 | 96.50
16 | 39.95 | 67.25 | 81.25 | 83.10 | 94.35 | 94.45 | 98.80
17 | 42.20 | 70.75 | 84.30 | 86.05 | 97.50 | 97.70 | 102.55
18 | 44.40 | 74.10 | 87.30 | 89.25 | 100.95 | 101.25 | 106.15
19 | 45.60 | 77.60 | 90.30 | 92.30 | 104.40 | 104.65 | 109.75
20 | 47.70 | 81.15 | 94.75 | 96.20 | 108.50 | 109.15 | 114.65
21 | 49.10 | 86.20 | 97.75 | 99.05 | 113.30 | 113.70 | 118.90
22 | 51.30 | 89.80 | 102.05 | 103.65 | 116.85 | 117.25 | 123.50
23 | 52.40 | 93.25 | 105.05 | 106.85 | 120.45 | 120.70 | 127.10
24 | 54.60 | 96.80 | 108.45 | 109.90 | 124.10 | 124.20 | 129.90
25 | 56.95 | 100.40 | 111.05 | 113.05 | 127.45 | 127.80 | 134.00
26 | 58.00 | 104.00 | 114.25 | 116.25 | 131.05 | 131.40 | 137.75
27 | 60.15 | 107.40 | 117.25 | 119.25 | 134.50 | 134.95 | 141.40
28 | 61.30 | 111.00 | 121.00 | 122.40 | 138.00 | 138.40 | 145.10
29 | 63.60 | 114.50 | 124.95 | 125.55 | 141.55 | 141.95 | 148.65
30 | 65.85 | 118.05 | 128.90 | 129.25 | 145.65 | 146.05 | 153.40
31 | 66.90 | 121.55 | 132.80 | 133.20 | 150.25 | 150.60 | 158.25
32 | 69.10 | 125.25 | 136.75 | 137.30 | 154.65 | 155.05 | 162.95
33 | 70.25 | 128.75 | 140.70 | 141.15 | 159.15 | 159.50 | 167.60
34 | 72.50 | 132.15 | 144.75 | 145.10 | 163.55 | 163.90 | 172.30
35 | 73.65 | 135.75 | 148.55 | 149.15 | 167.95 | 168.45 | 177.00
36 | 75.80 | 139.35 | 152.60 | 153.05 | 172.55 | 172.95 | 181.75
37 | 78.00 | 142.80 | 156.50 | 157.10 | 177.10 | 177.45 | 186.50
38 | 79.15 | 146.40 | 160.50 | 161.10 | 181.50 | 181.85 | 191.15
39 | 81.40 | 150.00 | 164.45 | 165.00 | 185.75 | 186.20 | 195.90
40 | 82.45 | 153.40 | 168.50 | 168.95 | 190.25 | 190.80 | 200.65
41 | 84.70 | 157.00 | 172.40 | 173.00 | 194.90 | 195.15 | 205.35
42 | 86.90 | 160.60 | 176.35 | 176.95 | 199.45 | 199.70 | 210.05
43 | 88.10 | 164.05 | 180.25 | 181.00 | 203.85 | 204.25 | 214.80
44 | 90.25 | 167.65 | 184.25 | 184.95 | 208.30 | 208.70 | 219.45
45 | 91.45 | 171.25 | 188.10 | 188.85 | 212.75 | 213.10 | 224.25
46 | 93.65 | 174.65 | 192.25 | 192.80 | 217.15 | 217.55 | 228.95
47 | 94.75 | 178.25 | 196.15 | 196.90 | 221.65 | 222.00 | 233.65
48 | 96.90 | 181.85 | 200.00 | 200.75 | 226.15 | 226.55 | 238.35
49 | 99.15 | 185.30 | 204.00 | 204.70 | 230.75 | 230.95 | 243.10
50 | 100.35 | 188.90 | 208.05 | 208.75 | 235.05 | 235.40 | 247.80
51 | 102.55 | 192.50 | 211.95 | 212.70 | 239.45 | 239.85 | 252.55
52 | 103.70 | 195.90 | 215.85 | 216.75 | 244.05 | 244.45 | 257.30
53 | 105.95 | 199.50 | 219.85 | 220.55 | 248.55 | 248.75 | 262.00
54 | 108.20 | 203.10 | 223.75 | 224.60 | 253.05 | 253.30 | 266.70
55 | 109.25 | 207.75 | 227.85 | 228.55 | 257.45 | 257.80 | 271.35
56 | 111.45 | 211.35 | 231.70 | 232.65 | 261.90 | 262.20 | 276.10
57 | 112.60 | 214.95 | 235.70 | 236.55 | 266.35 | 266.75 | 280.80
58 | 114.70 | 218.35 | 239.60 | 240.50 | 270.85 | 271.10 | 285.55
59 | 116.05 | 221.85 | 243.55 | 244.50 | 275.40 | 275.65 | 290.25
60 | 118.15 | 225.45 | 247.50 | 248.45 | 279.85 | 280.15 | 294.95
61 | 120.40 | 229.05 | 251.60 | 252.60 | 284.30 | 284.65 | 299.65
62 | 121.55 | 232.50 | 255.45 | 256.35 | 288.70 | 289.10 | 304.45
63 | 123.75 | 236.05 | 259.40 | 260.40 | 293.25 | 293.55 | 309.25
64 | 124.80 | 239.55 | 263.35 | 264.35 | 297.75 | 298.00 | 313.95
65 | 127.05 | 243.10 | 267.25 | 268.20 | 302.15 | 302.50 | 318.55
66 | 129.35 | 246.70 | 271.35 | 272.30 | 306.65 | 307.00 | 323.20
67 | 130.45 | 250.20 | 275.30 | 276.20 | 311.00 | 311.45 | 328.00
68 | 132.60 | 253.75 | 279.20 | 280.30 | 315.65 | 315.95 | 332.85
69 | 133.65 | 257.30 | 283.15 | 284.25 | 320.00 | 320.30 | 337.35
70 | 136.00 | 260.90 | 287.15 | 288.10 | 324.50 | 324.70 | 342.10

Retail Flat Rate Envelope

| ($)
Retail Regular Flat Rate Envelope, per piece | 18.95
Retail Legal Flat Rate Envelope, per piece | 18.95

Retail Flat Rate Box

| ($)
Retail Flat Rate Box, per piece | 39.95

Commercial Base Zone/Weight

Maximum weight (pounds) | Zones 1 & 2 ($) | Zone 3 ($) | Zone 4 ($) | Zone 5 ($) | Zone 6 ($) | Zone 7 ($) | Zone 8 ($)
0.5 | 12.85 | 16.68 | 20.05 | 22.81 | 24.76 | 26.46 | 27.18
1 | 14.85 | 16.68 | 20.05 | 22.81 | 24.76 | 26.46 | 27.18
2 | 15.30 | 16.94 | 22.56 | 25.24 | 27.99 | 29.15 | 30.35
3 | 15.65 | 18.13 | 24.98 | 27.96 | 31.01 | 32.05 | 33.19
4 | 16.00 | 19.01 | 27.08 | 30.59 | 33.85 | 34.89 | 36.27
5 | 16.35 | 19.79 | 29.62 | 33.46 | 36.72 | 37.79 | 39.14
6 | 16.62 | 21.44 | 32.86 | 36.96 | 40.76 | 41.47 | 43.24
7 | 17.40 | 22.51 | 35.13 | 39.72 | 43.64 | 44.65 | 46.19
8 | 17.55 | 23.62 | 37.40 | 42.26 | 46.55 | 47.78 | 49.16
9 | 17.76 | 24.49 | 39.53 | 44.99 | 49.47 | 50.91 | 52.32
10 | 17.79 | 24.52 | 41.35 | 47.35 | 49.50 | 50.94 | 53.69
11 | 19.64 | 26.88 | 43.53 | 49.89 | 55.29 | 57.07 | 58.41
12 | 20.45 | 27.99 | 45.87 | 52.22 | 58.02 | 60.16 | 61.54
13 | 20.75 | 29.03 | 48.05 | 54.61 | 60.34 | 63.35 | 64.51
14 | 21.59 | 30.14 | 50.53 | 56.91 | 62.70 | 66.11 | 67.67
15 | 21.86 | 30.95 | 52.24 | 59.21 | 62.74 | 68.25 | 70.24
16 | 22.72 | 32.29 | 54.75 | 61.42 | 67.15 | 70.03 | 71.99
17 | 24.24 | 34.20 | 57.71 | 63.35 | 68.68 | 71.59 | 73.58
18 | 25.07 | 35.31 | 59.46 | 64.70 | 70.21 | 73.19 | 75.52
19 | 25.56 | 36.26 | 60.84 | 66.08 | 71.81 | 74.81 | 77.51
20 | 25.59 | 36.72 | 62.40 | 67.67 | 73.37 | 76.56 | 79.29
21 | 28.83 | 40.84 | 68.22 | 74.26 | 80.13 | 83.57 | 87.18
22 | 29.68 | 41.75 | 69.86 | 75.93 | 81.80 | 85.51 | 89.05
23 | 30.27 | 42.61 | 71.54 | 77.80 | 83.71 | 87.35 | 91.15
24 | 30.93 | 43.36 | 73.44 | 79.77 | 85.94 | 89.25 | 93.02
25 | 31.19 | 43.59 | 75.31 | 81.41 | 86.82 | 91.41 | 94.92
26 | 32.41 | 45.26 | 77.38 | 83.41 | 90.56 | 93.74 | 96.92
27 | 33.00 | 46.12 | 79.28 | 85.80 | 93.05 | 95.78 | 98.76
28 | 33.85 | 47.13 | 81.38 | 88.26 | 94.96 | 97.68 | 100.86
29 | 34.18 | 47.92 | 83.44 | 90.13 | 96.99 | 99.81 | 102.99
30 | 34.21 | 47.95 | 85.12 | 92.20 | 97.02 | 101.71 | 103.68
31 | 35.75 | 49.72 | 86.95 | 94.30 | 100.93 | 103.78 | 107.19
32 | 36.77 | 50.87 | 88.86 | 96.40 | 102.99 | 105.88 | 109.22
33 | 37.62 | 52.15 | 90.56 | 98.47 | 105.09 | 108.24 | 111.72
34 | 38.44 | 52.94 | 92.63 | 100.56 | 107.35 | 110.57 | 114.05
35 | 39.26 | 53.92 | 94.69 | 102.66 | 109.42 | 112.90 | 116.28
36 | 40.57 | 54.78 | 96.73 | 104.73 | 111.55 | 115.39 | 118.54
37 | 40.61 | 56.35 | 98.63 | 106.86 | 113.78 | 117.95 | 121.03
38 | 41.26 | 57.24 | 100.37 | 108.73 | 115.95 | 120.70 | 123.33
39 | 42.61 | 58.22 | 102.24 | 110.77 | 118.15 | 123.20 | 125.79
40 | 42.64 | 59.20 | 104.11 | 112.86 | 120.24 | 125.56 | 128.31
41 | 44.02 | 60.42 | 105.98 | 115.00 | 122.54 | 127.59 | 130.74
42 | 44.67 | 61.63 | 108.04 | 117.06 | 125.03 | 130.58 | 133.40
43 | 45.85 | 62.78 | 110.18 | 119.13 | 127.36 | 132.68 | 136.15
44 | 46.87 | 64.03 | 112.04 | 121.23 | 129.59 | 135.00 | 139.04
45 | 47.86 | 65.37 | 114.05 | 123.30 | 132.12 | 137.33 | 141.27
46 | 48.81 | 66.78 | 116.05 | 125.92 | 134.61 | 139.70 | 143.76
47 | 49.63 | 68.19 | 118.08 | 127.30 | 137.10 | 141.73 | 146.03
48 | 49.95 | 69.54 | 119.75 | 129.40 | 139.60 | 144.29 | 148.75
49 | 50.32 | 71.14 | 121.46 | 130.41 | 139.63 | 146.58 | 151.40
50 | 50.35 | 71.11 | 121.49 | 129.79 | 139.66 | 146.62 | 151.44
51 | 53.07 | 74.10 | 125.33 | 135.63 | 147.27 | 151.67 | 157.21
52 | 53.89 | 75.67 | 127.26 | 137.69 | 149.76 | 154.16 | 160.29
53 | 54.94 | 76.92 | 129.20 | 139.99 | 152.45 | 156.69 | 162.98
54 | 55.83 | 78.46 | 131.33 | 142.06 | 154.75 | 159.70 | 166.07
55 | 56.65 | 79.90 | 133.66 | 143.99 | 157.08 | 162.36 | 168.53
56 | 57.70 | 81.41 | 136.09 | 145.66 | 159.54 | 165.38 | 171.25
57 | 58.81 | 82.82 | 138.55 | 148.26 | 161.84 | 168.07 | 174.17
58 | 60.09 | 84.20 | 141.07 | 150.29 | 164.33 | 171.08 | 177.25
59 | 60.94 | 85.61 | 143.53 | 152.13 | 166.82 | 173.77 | 180.37
60 | 61.57 | 86.20 | 145.86 | 154.72 | 169.51 | 176.73 | 182.56
61 | 63.24 | 88.59 | 148.35 | 156.69 | 172.20 | 179.45 | 182.60
62 | 64.75 | 90.17 | 150.62 | 159.67 | 174.89 | 182.40 | 189.42
63 | 65.83 | 91.94 | 153.18 | 161.97 | 177.78 | 185.55 | 192.57
64 | 67.08 | 93.74 | 155.67 | 164.69 | 180.73 | 188.76 | 195.65
65 | 67.50 | 95.55 | 157.96 | 167.35 | 183.61 | 192.11 | 198.31
66 | 69.47 | 97.28 | 160.49 | 170.07 | 186.50 | 195.26 | 201.85
67 | 69.80 | 99.12 | 162.79 | 173.02 | 189.65 | 198.64 | 205.36
68 | 71.96 | 100.86 | 165.28 | 175.91 | 192.57 | 198.67 | 208.67
69 | 73.05 | 102.66 | 167.74 | 178.83 | 192.60 | 199.65 | 212.18
70 | 73.08 | 103.45 | 167.77 | 181.58 | 195.49 | 202.15 | 215.07

Commercial Base Flat Rate Envelope

| ($)
Commercial Base Regular Flat Rate Envelope, per piece | 17.75
Commercial Base Legal Flat Rate Envelope, per piece | 17.75

Commercial Base Flat Rate Box

| ($)
Commercial Base Flat Rate Box, per piece | 39.95

Commercial Plus Zone/Weight

Maximum weight (pounds) | Zones 1 & 2 ($) | Zone 3 ($) | Zone 4 ($) | Zone 5 ($) | Zone 6 ($) | Zone 7 ($) | Zone 8 ($)
0.5 | 11.08 | 12.91 | 15.71 | 16.81 | 17.07 | 17.74 | 18.00
1 | 11.54 | 15.51 | 18.50 | 20.54 | 20.97 | 21.26 | 24.75
2 | 11.85 | 16.75 | 21.75 | 22.54 | 25.00 | 27.75 | 30.25
3 | 13.44 | 18.13 | 24.98 | 27.96 | 29.85 | 32.05 | 33.05
4 | 14.49 | 19.01 | 27.08 | 30.59 | 33.85 | 34.89 | 36.05
5 | 14.63 | 19.79 | 29.62 | 33.46 | 36.72 | 37.79 | 39.05
6 | 16.62 | 21.44 | 32.86 | 36.96 | 40.76 | 41.47 | 43.24
7 | 17.40 | 22.51 | 35.13 | 39.72 | 43.64 | 44.65 | 46.19
8 | 17.55 | 23.62 | 37.40 | 42.26 | 46.55 | 47.78 | 49.16
9 | 17.76 | 24.49 | 39.53 | 44.99 | 49.47 | 50.91 | 52.32
10 | 17.79 | 24.52 | 41.35 | 47.35 | 49.50 | 50.94 | 53.69
11 | 19.64 | 26.88 | 43.53 | 49.89 | 55.29 | 57.07 | 58.41
12 | 20.45 | 27.99 | 45.87 | 52.22 | 58.02 | 60.16 | 61.54
13 | 20.75 | 29.03 | 48.05 | 54.61 | 60.34 | 63.35 | 64.51
14 | 21.59 | 30.14 | 50.53 | 56.91 | 62.70 | 66.11 | 67.67
15 | 21.86 | 30.95 | 52.24 | 59.21 | 62.74 | 68.25 | 70.24
16 | 22.72 | 32.29 | 54.75 | 61.42 | 67.15 | 70.03 | 71.99
17 | 24.24 | 34.20 | 57.71 | 63.35 | 68.68 | 71.59 | 73.58
18 | 25.07 | 35.31 | 59.46 | 64.70 | 70.21 | 73.19 | 75.52
19 | 25.56 | 36.26 | 60.84 | 66.08 | 71.81 | 74.81 | 77.51
20 | 25.59 | 36.72 | 62.40 | 67.67 | 73.37 | 76.56 | 79.29
21 | 28.83 | 40.84 | 68.22 | 74.26 | 80.13 | 83.57 | 87.18
22 | 29.68 | 41.75 | 69.86 | 75.93 | 81.80 | 85.51 | 89.05
23 | 30.27 | 42.61 | 71.54 | 77.80 | 83.71 | 87.35 | 91.15
24 | 30.93 | 43.36 | 73.44 | 79.77 | 85.94 | 89.25 | 93.02
25 | 31.19 | 43.59 | 75.31 | 81.41 | 86.82 | 91.41 | 94.92
26 | 32.41 | 45.26 | 77.38 | 83.41 | 90.56 | 93.74 | 96.92
27 | 33.00 | 46.12 | 79.28 | 85.80 | 93.05 | 95.78 | 98.76
28 | 33.85 | 47.13 | 81.38 | 88.26 | 94.96 | 97.68 | 100.86
29 | 34.18 | 47.92 | 83.44 | 90.13 | 96.99 | 99.81 | 102.99
30 | 34.21 | 47.95 | 85.12 | 92.20 | 97.02 | 101.71 | 103.68
31 | 35.75 | 49.72 | 86.95 | 94.30 | 100.93 | 103.78 | 107.19
32 | 36.77 | 50.87 | 88.86 | 96.40 | 102.99 | 105.88 | 109.22
33 | 37.62 | 52.15 | 90.56 | 98.47 | 105.09 | 108.24 | 111.72
34 | 38.44 | 52.94 | 92.63 | 100.56 | 107.35 | 110.57 | 114.05
35 | 39.26 | 53.92 | 94.69 | 102.66 | 109.42 | 112.90 | 116.28
36 | 40.57 | 54.78 | 96.73 | 104.73 | 111.55 | 115.39 | 118.54
37 | 40.61 | 56.35 | 98.63 | 106.86 | 113.78 | 117.95 | 121.03
38 | 41.26 | 57.24 | 100.37 | 108.73 | 115.95 | 120.70 | 123.33
39 | 42.61 | 58.22 | 102.24 | 110.77 | 118.15 | 123.20 | 125.79
40 | 42.64 | 59.20 | 104.11 | 112.86 | 120.24 | 125.56 | 128.31
41 | 44.02 | 60.42 | 105.98 | 115.00 | 122.54 | 127.59 | 130.74
42 | 44.67 | 61.63 | 108.04 | 117.06 | 125.03 | 130.58 | 133.40
43 | 45.85 | 62.78 | 110.18 | 119.13 | 127.36 | 132.68 | 136.15
44 | 46.87 | 64.03 | 112.04 | 121.23 | 129.59 | 135.00 | 139.04
45 | 47.86 | 65.37 | 114.05 | 123.30 | 132.12 | 137.33 | 141.27
46 | 48.81 | 66.78 | 116.05 | 125.92 | 134.61 | 139.70 | 143.76
47 | 49.63 | 68.19 | 118.08 | 127.30 | 137.10 | 141.73 | 146.03
48 | 49.95 | 69.54 | 119.75 | 129.40 | 139.60 | 144.29 | 148.75
49 | 50.32 | 71.14 | 121.46 | 130.41 | 139.63 | 146.58 | 151.40
50 | 50.35 | 71.11 | 121.49 | 129.79 | 139.66 | 146.62 | 151.44
51 | 53.07 | 74.10 | 125.33 | 135.63 | 147.27 | 151.67 | 157.21
52 | 53.89 | 75.67 | 127.26 | 137.69 | 149.76 | 154.16 | 160.29
53 | 54.94 | 76.92 | 129.20 | 139.99 | 152.45 | 156.69 | 162.98
54 | 55.83 | 78.46 | 131.33 | 142.06 | 154.75 | 159.70 | 166.07
55 | 56.65 | 79.90 | 133.66 | 143.99 | 157.08 | 162.36 | 168.53
56 | 57.70 | 81.41 | 136.09 | 145.66 | 159.54 | 165.38 | 171.25
57 | 58.81 | 82.82 | 138.55 | 148.26 | 161.84 | 168.07 | 174.17
58 | 60.09 | 84.20 | 141.07 | 150.29 | 164.33 | 171.08 | 177.25
59 | 60.94 | 85.61 | 143.53 | 152.13 | 166.82 | 173.77 | 180.37
60 | 61.57 | 86.20 | 145.86 | 154.72 | 169.51 | 176.73 | 182.56
61 | 63.24 | 88.59 | 148.35 | 156.69 | 172.20 | 179.45 | 182.60
62 | 64.75 | 90.17 | 150.62 | 159.67 | 174.89 | 182.40 | 189.42
63 | 65.83 | 91.94 | 153.18 | 161.97 | 177.78 | 185.55 | 192.57
64 | 67.08 | 93.74 | 155.67 | 164.69 | 180.73 | 188.76 | 195.65
65 | 67.50 | 95.55 | 157.96 | 167.35 | 183.61 | 192.11 | 198.31
66 | 69.47 | 97.28 | 160.49 | 170.07 | 186.50 | 195.26 | 201.85
67 | 69.80 | 99.12 | 162.79 | 173.02 | 189.65 | 198.64 | 205.36
68 | 71.96 | 100.86 | 165.28 | 175.91 | 192.57 | 198.67 | 208.67
69 | 73.05 | 102.66 | 167.74 | 178.83 | 192.60 | 199.65 | 212.18
70 | 73.08 | 103.45 | 167.77 | 181.58 | 195.49 | 202.15 | 215.07

Commercial Plus Flat Rate Envelope

| ($)
Commercial Plus Regular Flat Rate Envelope, per piece | 12.72
Commercial Plus Legal Flat Rate Envelope, per piece | 12.72

Commercial Plus Flat Rate Box

| ($)
Commercial Plus Flat Rate Box, per piece | 39.95

Pickup on Demand Service

Add price specified for Parcel Post Pickup On Demand service (section 1405.6) for each Pickup On Demand stop.

Sunday/Holiday Delivery

Add $12.50 for requesting Sunday or holiday delivery.

2110 Priority Mail

* * *

2110.2 Size and Weight Limitations

* * *

2110.4 Price Categories

The following price categories are available for the product specified in this section:

• Retail

○ Zone/Weight—Prices are based on weight and zone

○ Flat Rate Envelopes—Envelope provided or approved by the Postal Service

○ Flat Rate Boxes—Boxes provided or approved by the Postal Service

○ Regional Rate Boxes

○ Balloon Price—Applies to parcels in zones local through 4, weighing less than 20 pounds, and measuring between 84 and 108 inches in combined length and girth

○ Dimensional Weight—Applies to parcels in zones 5 through 8 that exceed one cubic foot

• Commercial Base—Available to mailers who use specifically authorized postage payment methods

○ Zone/Weight—Prices are based on weight and zone

○ Flat Rate Envelopes—Envelope provided or approved by the Postal Service

○ Flat Rate Boxes—Boxes provided or approved by the Postal Service

○ Regional Rate Boxes

○ Balloon Price—Applies to parcels in zones local through 4, weighing less than 20 pounds, and measuring between 84 and 108 inches in combined length and girth

○ Dimensional Weight—Applies to parcels in zones 5 through 8 that exceed one cubic foot

• Commercial Plus—Available to mailers who use specifically authorized postage payment methods and whose annual volume exceeds 75,000 pieces or 600 open and distribute containers for parcels, or 5,000 letter-sized pieces excluding the Padded Flat Rate Envelope

○ Zone/Weight—Prices are based on weight and zone

○ Flat Rate Envelopes—Envelope provided or approved by the Postal Service

○ Flat Rate Boxes—Boxes provided or approved by the Postal Service

○ Regional Rate Boxes

○ Balloon Price—Applies to parcels in zones local through 4, weighing less than 20 pounds, and measuring between 84 and 108 inches in combined length and girth

○ Dimensional Weight—Applies to parcels in zones 5 through 8 that exceed one cubic foot

○ Critical Mail—Prices are available to Commercial Plus customers who use specifically authorized postage payment methods and whose annual Priority Mail volume exceeds 5,000 pieces.

• Commercial Plus Cubic—Prices are available to customers who use specifically authorized postage payment methods and whose annual Priority Mail volume exceeds [2]150,000 pieces

○ Zone/Cubic Volume

• Open and Distribute (PMOD)—Available to mailers who use specifically authorized postage payment methods

• Processing Facilities—Received at a designated processing facility, or other equivalent facility

• Half Tray

• Full Tray

• EMM Tray

• Flat Tub

• DDU—Received at a designated destination delivery unit, or other equivalent facility

• Half Tray

• Full Tray

• EMM Tray

• Flat Tub

2110.5 Optional Features

The following additional postal services may be available in conjunction with the product specified in this section:

• Pickup on Demand Service

• Ancillary Services (1505)

○ Address Correction Service (1505.1)

○ Business Reply Mail (1505.3)

○ Certified Mail (1505.5.5)

○ Certificate of Mailing (1505.6)

○ Collect On Delivery (1505.7)

○ Delivery Confirmation (1505.8)

○ Insurance (1505.9)

○ Merchandise Return (1505.10)

○ Registered Mail (1505.12)

○ Return Receipt (1505.13)

○ Return Receipt for Merchandise (1505.14)

○ Restricted Delivery (1505.15)

○ Signature Confirmation (1505.17)

○ Special Handling (1505.18)

• Competitive Ancillary Services (2645)

○ Adult Signature Service (2645.1)

○ Package Intercept Service (2645.2)

2110.6 Prices

Retail Priority Mail Zone/Weight

Maximum weight (pounds) | Local, Zones 1 & 2 ($) | Zone 3 ($) | Zone 4 ($) | Zone 5 ($) | Zone 6 ($) | Zone 7 ($) | Zone 8 ($)
1 | 5.20 | 5.25 | 5.35 | 5.50 | 5.65 | 5.90 | 6.30
2 | 5.30 | 5.65 | 6.30 | 8.05 | 8.75 | 9.45 | 10.40
3 | 6.05 | 6.95 | 8.05 | 9.70 | 10.95 | 11.80 | 13.85
4 | 6.85 | 8.15 | 9.20 | 12.85 | 14.05 | 15.00 | 16.70
5 | 8.10 | 9.35 | 10.55 | 14.55 | 16.05 | 17.25 | 19.25
6 | 8.95 | 10.30 | 11.85 | 16.20 | 18.00 | 19.35 | 21.75
7 | 9.50 | 11.20 | 12.75 | 18.05 | 19.90 | 21.80 | 24.45
8 | 10.20 | 12.20 | 14.25 | 19.60 | 21.85 | 24.00 | 27.40
9 | 10.85 | 13.15 | 15.45 | 21.25 | 23.80 | 26.00 | 30.50
10 | 11.60 | 14.15 | 16.85 | 23.00 | 25.70 | 28.60 | 33.20
11 | 12.40 | 15.10 | 18.15 | 24.80 | 27.60 | 31.55 | 36.45
12 | 13.25 | 16.20 | 19.45 | 26.60 | 30.00 | 34.10 | 39.15
13 | 14.10 | 17.20 | 20.55 | 28.15 | 32.20 | 35.50 | 40.55
14 | 14.90 | 18.25 | 21.80 | 29.90 | 33.95 | 37.50 | 42.55
15 | 15.55 | 19.25 | 23.00 | 31.65 | 35.45 | 38.30 | 43.75
16 | 16.00 | 20.30 | 24.25 | 33.40 | 37.45 | 40.45 | 46.20
17 | 16.65 | 21.30 | 25.55 | 35.15 | 39.35 | 42.55 | 48.65
18 | 16.95 | 22.05 | 26.80 | 36.85 | 41.40 | 44.65 | 51.10
19 | 17.45 | 22.50 | 27.30 | 37.85 | 43.30 | 46.75 | 53.50
20 | 18.15 | 22.80 | 27.80 | 38.50 | 44.40 | 48.50 | 55.95
21 | 18.75 | 23.10 | 28.20 | 39.10 | 45.10 | 49.25 | 57.25
22 | 19.20 | 23.65 | 28.70 | 40.00 | 46.10 | 50.45 | 58.65
23 | 19.65 | 24.10 | 29.50 | 40.70 | 46.95 | 51.30 | 59.70
24 | 20.10 | 24.60 | 30.45 | 41.55 | 47.90 | 52.50 | 61.15
25 | 20.55 | 25.00 | 31.35 | 42.25 | 48.60 | 53.30 | 62.20
26 | 20.95 | 25.25 | 32.40 | 43.10 | 49.75 | 54.45 | 64.15
27 | 21.55 | 25.65 | 33.35 | 43.95 | 50.45 | 55.25 | 66.55
28 | 22.25 | 26.00 | 34.30 | 45.05 | 51.15 | 56.00 | 69.05
29 | 22.90 | 26.25 | 35.25 | 45.70 | 52.00 | 56.80 | 70.90
30 | 23.60 | 26.60 | 36.05 | 46.35 | 53.45 | 57.65 | 72.45
31 | 24.25 | 26.85 | 36.60 | 46.95 | 54.25 | 59.20 | 73.90
32 | 24.55 | 27.45 | 37.25 | 47.50 | 54.95 | 60.80 | 75.40
33 | 24.90 | 28.20 | 38.15 | 48.15 | 55.70 | 62.45 | 76.80
34 | 25.15 | 28.95 | 39.15 | 49.15 | 57.30 | 64.00 | 78.25
35 | 25.45 | 29.65 | 39.70 | 50.20 | 58.85 | 65.65 | 79.60
36 | 25.75 | 30.50 | 40.20 | 51.30 | 60.35 | 66.80 | 80.95
37 | 26.00 | 31.05 | 40.80 | 52.20 | 61.90 | 68.30 | 82.25
38 | 26.25 | 31.85 | 41.30 | 53.25 | 63.65 | 69.85 | 83.60
39 | 26.50 | 32.50 | 41.80 | 54.35 | 65.15 | 71.70 | 84.85
40 | 26.85 | 33.20 | 42.35 | 55.50 | 66.20 | 73.30 | 86.05
41 | 27.10 | 33.85 | 42.80 | 56.00 | 67.30 | 74.85 | 87.25
42 | 27.30 | 34.50 | 43.30 | 57.20 | 68.50 | 75.85 | 88.45
43 | 27.60 | 35.05 | 43.70 | 58.50 | 70.15 | 76.80 | 89.60
44 | 27.80 | 35.60 | 44.25 | 59.70 | 71.30 | 77.70 | 90.65
45 | 28.00 | 36.00 | 44.60 | 61.05 | 72.05 | 78.60 | 91.75
46 | 28.20 | 36.30 | 45.05 | 62.20 | 72.85 | 79.40 | 92.85
47 | 28.45 | 36.55 | 45.45 | 63.60 | 73.60 | 80.30 | 93.90
48 | 28.65 | 36.90 | 45.85 | 64.85 | 74.55 | 81.10 | 94.90
49 | 28.85 | 37.15 | 46.25 | 66.05 | 75.55 | 81.90 | 95.85
50 | 29.00 | 37.40 | 46.55 | 67.35 | 76.60 | 82.95 | 96.85
51 | 29.15 | 37.70 | 46.95 | 68.45 | 77.65 | 84.15 | 97.75
52 | 29.50 | 37.95 | 47.30 | 69.00 | 78.45 | 85.45 | 98.90
53 | 30.00 | 38.20 | 47.60 | 69.55 | 79.10 | 86.80 | 100.20
54 | 30.40 | 38.40 | 47.95 | 70.10 | 79.70 | 88.10 | 101.60
55 | 30.90 | 38.65 | 48.20 | 70.60 | 80.30 | 89.45 | 102.95
56 | 31.35 | 38.85 | 48.50 | 71.10 | 80.85 | 90.75 | 103.90
57 | 31.80 | 39.05 | 48.80 | 71.50 | 81.45 | 92.10 | 104.70
58 | 32.30 | 39.20 | 49.10 | 72.00 | 81.90 | 93.35 | 105.45
59 | 32.80 | 39.40 | 49.30 | 72.40 | 82.40 | 93.95 | 106.25
60 | 33.20 | 39.60 | 49.80 | 72.80 | 82.85 | 94.50 | 107.00
61 | 33.70 | 39.75 | 50.70 | 73.15 | 83.30 | 95.05 | 108.45
62 | 34.10 | 39.85 | 51.35 | 73.50 | 83.70 | 95.50 | 110.20
63 | 34.75 | 40.05 | 52.15 | 73.90 | 84.15 | 95.95 | 111.95
64 | 35.10 | 40.15 | 52.95 | 74.20 | 84.50 | 96.40 | 113.65
65 | 35.55 | 40.25 | 53.65 | 74.45 | 84.80 | 96.85 | 115.40
66 | 36.00 | 40.40 | 54.50 | 74.80 | 85.20 | 97.15 | 117.10
67 | 36.55 | 40.50 | 55.40 | 75.05 | 85.50 | 97.55 | 118.65
68 | 37.00 | 40.60 | 56.15 | 75.25 | 86.55 | 97.90 | 119.90
69 | 37.50 | 40.65 | 56.80 | 75.50 | 87.60 | 98.20 | 121.20
70 | 37.90 | 40.75 | 57.75 | 75.70 | 88.65 | 98.60 | 122.50

Retail Pickup On Demand Service

Add price specified for Parcel Post Pickup On Demand service (section 1405.6) for each Pickup On Demand stop.

¹ The price for Regular, Legal, or Padded Flat Rate Envelopes also applies to sales of Regular, Legal, or Padded Flat Rate Envelopes, respectively, marked with Forever postage, at the time the envelopes are purchased.

² The price for Small, Medium, or Large Flat Rate Boxes also applies to sales of Small, Medium, or Large Flat Rate Boxes, respectively, marked with Forever postage, at the time the boxes are purchased.

Retail Flat Rate Envelopes ¹

| ($)
Retail Regular Flat Rate Envelope, per piece | 5.15
Retail Legal Flat Rate Envelope, per piece | 5.30
Retail Padded Flat Rate Envelope, per piece | 5.30

Retail Flat Rate Boxes ²

Size | Delivery to domestic address ($) | Delivery to APO/FPO/DPO address ($)
Small Flat Rate Box | 5.35 | 5.35
Medium Flat Rate Boxes | 11.35 | 11.35
Large Flat Rate Boxes | 15.45 | 13.45

Retail Balloon Price

In Zones 1-4 (including local), parcels weighing less than 20 pounds but measuring more than 84 inches in combined length and girth (but not more than 108 inches) are charged the applicable price for a 20-pound parcel.

Retail Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Regional Rate Boxes

Size | Local, Zones 1 & 2 ($) | Zone 3 ($) | Zone 4 ($) | Zone 5 ($) | Zone 6 ($) | Zone 7 ($) | Zone 8 ($)
A | 5.79 | 5.91 | 6.41 | 8.01 | 8.70 | 9.40 | 10.37
B | 6.65 | 7.73 | 8.93 | 11.55 | 13.49 | 14.48 | 16.21
C | 15.19 | 19.48 | 23.41 | 32.27 | 36.41 | 39.74 | 45.77

Commercial Base Priority Mail Zone/Weight

Maximum weight (pounds) | Local, Zones 1 & 2 ($) | Zone 3 ($) | Zone 4 ($) | Zone 5 ($) | Zone 6 ($) | Zone 7 ($) | Zone 8 ($)
1 | 4.90 | 4.97 | 5.14 | 5.34 | 5.51 | 5.78 | 6.20
2 | 5.04 | 5.16 | 5.66 | 7.26 | 7.95 | 8.65 | 9.62
3 | 5.24 | 6.05 | 7.14 | 8.71 | 10.20 | 11.06 | 12.82
4 | 5.90 | 6.98 | 8.18 | 10.80 | 12.74 | 13.73 | 15.46
5 | 6.91 | 8.10 | 9.32 | 12.50 | 14.54 | 15.80 | 17.88
6 | 7.74 | 9.04 | 10.52 | 14.22 | 16.31 | 18.00 | 20.47
7 | 8.25 | 9.86 | 11.34 | 16.13 | 18.03 | 20.32 | 23.00
8 | 8.86 | 10.72 | 12.87 | 17.73 | 19.81 | 22.34 | 25.83
9 | 9.24 | 11.55 | 13.72 | 19.10 | 21.58 | 24.23 | 28.73
10 | 9.95 | 12.42 | 14.93 | 20.70 | 23.30 | 26.63 | 31.26
11 | 10.77 | 13.28 | 16.13 | 22.32 | 25.03 | 28.98 | 33.86
12 | 11.52 | 14.22 | 17.30 | 23.96 | 27.27 | 31.33 | 36.33
13 | 12.23 | 15.11 | 18.23 | 25.25 | 29.29 | 32.62 | 37.61
14 | 12.94 | 16.03 | 19.34 | 26.82 | 30.89 | 34.45 | 39.48
15 | 13.52 | 16.92 | 20.42 | 28.39 | 32.13 | 35.08 | 40.50
16 | 13.92 | 17.83 | 21.53 | 29.95 | 33.94 | 37.05 | 42.77
17 | 14.44 | 18.73 | 22.66 | 31.52 | 35.66 | 38.99 | 45.02
18 | 14.72 | 19.35 | 23.76 | 33.06 | 37.53 | 40.90 | 47.28
19 | 15.15 | 19.76 | 24.23 | 33.95 | 39.24 | 42.82 | 49.51
20 | 15.78 | 20.02 | 24.68 | 34.53 | 40.24 | 44.42 | 51.80
21 | 16.31 | 20.30 | 25.04 | 34.82 | 40.56 | 44.83 | 52.47
22 | 16.47 | 20.50 | 25.46 | 35.11 | 40.87 | 45.23 | 53.14
23 | 16.86 | 20.91 | 25.88 | 35.71 | 41.62 | 45.98 | 54.08
24 | 17.27 | 21.37 | 26.70 | 36.48 | 42.48 | 47.06 | 55.40
25 | 17.65 | 21.71 | 27.52 | 37.08 | 43.10 | 47.77 | 56.36
26 | 18.00 | 21.93 | 28.41 | 37.85 | 44.12 | 48.80 | 58.11
27 | 18.52 | 22.25 | 29.28 | 38.58 | 44.74 | 49.53 | 60.30
28 | 19.10 | 22.54 | 30.08 | 39.59 | 45.35 | 50.20 | 62.56
29 | 19.68 | 22.78 | 30.92 | 40.12 | 46.11 | 50.92 | 64.23
30 | 20.29 | 23.10 | 31.64 | 40.70 | 47.39 | 51.67 | 65.62
31 | 20.82 | 23.31 | 32.13 | 41.21 | 48.11 | 53.08 | 66.95
32 | 21.08 | 23.84 | 32.67 | 41.71 | 48.74 | 54.51 | 68.32
33 | 21.39 | 24.47 | 33.48 | 42.26 | 49.41 | 55.97 | 69.57
34 | 21.60 | 25.13 | 34.33 | 43.16 | 50.83 | 57.37 | 70.89
35 | 21.85 | 25.75 | 34.82 | 44.07 | 52.19 | 58.84 | 72.12
36 | 22.13 | 26.47 | 35.29 | 45.03 | 53.51 | 59.88 | 73.34
37 | 22.34 | 26.95 | 35.79 | 45.84 | 54.90 | 61.23 | 74.52
38 | 22.56 | 27.62 | 36.25 | 46.74 | 56.46 | 62.60 | 75.74
39 | 22.78 | 28.23 | 36.68 | 47.71 | 57.79 | 64.28 | 76.89
40 | 23.04 | 28.84 | 37.14 | 48.71 | 58.71 | 65.70 | 77.96
41 | 23.26 | 29.35 | 37.54 | 49.15 | 59.70 | 67.09 | 79.05
42 | 23.45 | 29.95 | 38.00 | 50.19 | 60.75 | 68.00 | 80.14
43 | 23.70 | 30.43 | 38.37 | 51.34 | 62.21 | 68.84 | 81.18
44 | 23.87 | 30.93 | 38.82 | 52.42 | 63.22 | 69.65 | 82.12
45 | 24.05 | 31.24 | 39.14 | 53.60 | 63.90 | 70.45 | 83.12
46 | 24.22 | 31.50 | 39.54 | 54.60 | 64.61 | 71.17 | 84.12
47 | 24.44 | 31.72 | 39.90 | 55.85 | 65.27 | 71.98 | 85.06
48 | 24.61 | 32.03 | 40.22 | 56.92 | 66.11 | 72.69 | 85.98
49 | 24.80 | 32.26 | 40.58 | 57.96 | 67.00 | 73.42 | 86.82
50 | 24.92 | 32.48 | 40.84 | 59.10 | 67.94 | 74.35 | 87.75
51 | 25.28 | 32.75 | 41.21 | 60.11 | 68.86 | 75.43 | 88.56
52 | 25.65 | 32.92 | 41.48 | 60.54 | 69.57 | 76.60 | 89.61
53 | 26.11 | 33.15 | 41.75 | 61.05 | 70.15 | 77.82 | 90.78
54 | 26.47 | 33.31 | 42.07 | 61.56 | 70.67 | 78.97 | 92.05
55 | 26.89 | 33.57 | 42.30 | 61.96 | 71.21 | 80.19 | 93.27
56 | 27.30 | 33.74 | 42.58 | 62.42 | 71.69 | 81.35 | 94.22
57 | 27.71 | 33.91 | 42.84 | 62.78 | 72.24 | 82.56 | 95.08
58 | 28.13 | 34.04 | 43.06 | 63.18 | 72.64 | 83.68 | 95.83
59 | 28.53 | 34.23 | 43.25 | 63.56 | 73.08 | 84.21 | 96.52
60 | 28.89 | 34.40 | 43.80 | 63.92 | 73.47 | 84.71 | 97.22
61 | 29.34 | 34.53 | 44.60 | 64.24 | 73.88 | 85.19 | 98.53
62 | 29.72 | 34.62 | 45.21 | 64.51 | 74.22 | 85.62 | 100.12
63 | 30.22 | 34.74 | 45.91 | 64.88 | 74.62 | 86.02 | 101.70
64 | 30.53 | 34.83 | 46.61 | 65.14 | 74.94 | 86.41 | 103.28
65 | 30.95 | 34.93 | 47.21 | 65.37 | 75.20 | 86.81 | 104.87
66 | 31.36 | 35.06 | 47.96 | 65.65 | 75.55 | 87.07 | 106.41
67 | 31.82 | 35.15 | 48.75 | 65.87 | 75.83 | 87.45 | 107.82
68 | 32.19 | 35.24 | 49.40 | 66.06 | 76.77 | 87.87 | 108.95
69 | 32.64 | 35.29 | 50.01 | 66.29 | 77.69 | 88.27 | 110.13
70 | 33.00 | 35.37 | 50.80 | 66.46 | 78.62 | 88.62 | 111.30

Commercial Pickup On Demand Service

Add price specified for Parcel Post Pickup On Demand service (section 1405.6) for each Pickup On Demand stop.

Commercial Base Flat Rate Envelope

| ($)
Commercial Base Regular Flat Rate Envelope, per piece | 4.90
Commercial Base Padded Flat Rate Envelope, per piece | 5.10
Commercial Base Legal Flat Rate Envelope, per piece | 5.10

Commercial Base Flat Rate Box

Size | Delivery to domestic address ($) | Delivery to APO/FPO/DPO address ($)
Small Flat Rate Box | 5.15 | 5.15
Regular Flat Rate Boxes | 10.85 | 10.85
Large Flat Rate Boxes | 14.65 | 12.65

Commercial Base Balloon Price

In Zones 1-4 (including local), parcels weighing less than 20 pounds but measuring more than 84 inches in combined length and girth (but not more than 108 inches) are charged the applicable price for a 20-pound parcel.

Commercial Base Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Regional Rate Boxes

Size | Local, Zones 1 & 2 ($) | Zone 3 ($) | Zone 4 ($) | Zone 5 ($) | Zone 6 ($) | Zone 7 ($) | Zone 8 ($)
A | 5.04 | 5.16 | 5.66 | 7.26 | 7.95 | 8.65 | 9.62
B | 5.90 | 6.98 | 8.18 | 10.80 | 12.74 | 13.73 | 15.46
C | 14.44 | 18.73 | 22.66 | 31.52 | 35.66 | 38.99 | 45.02

Commercial Plus Priority Mail Zone/Weight
Maximum weight (pounds) | Local, zones 1 & 2 ($) | Zone 3 ($) | Zone 4 ($) | Zone 5 ($) | Zone 6 ($) | Zone 7 ($) | Zone 8 ($)
0.5 | 4.39 | 4.45 | 4.54 | 4.73 | 4.91 | 5.10 | 5.38
1 | 4.80 | 4.93 | 5.10 | 5.24 | 5.42 | 5.61 | 5.99
2 | 4.95 | 5.12 | 5.56 | 6.85 | 7.34 | 7.92 | 8.57
3 | 5.06 | 5.85 | 6.70 | 8.27 | 9.72 | 10.65 | 11.95
4 | 5.63 | 6.68 | 7.79 | 10.09 | 11.81 | 13.02 | 14.81
5 | 6.27 | 7.62 | 8.55 | 11.79 | 13.69 | 15.18 | 17.46
6 | 7.14 | 8.83 | 10.17 | 13.91 | 15.35 | 17.51 | 19.43
7 | 7.85 | 9.79 | 11.29 | 15.89 | 17.06 | 19.69 | 22.20
8 | 8.30 | 10.17 | 12.58 | 17.35 | 18.51 | 21.60 | 24.91
9 | 8.52 | 10.88 | 13.42 | 18.72 | 20.04 | 23.50 | 27.72
10 | 9.03 | 11.72 | 14.15 | 19.94 | 21.70 | 25.57 | 30.27
11 | 9.45 | 12.01 | 14.97 | 20.71 | 23.05 | 26.97 | 31.35
12 | 9.86 | 12.62 | 15.80 | 21.87 | 24.84 | 28.36 | 32.70
13 | 10.12 | 12.93 | 16.26 | 23.08 | 26.63 | 29.50 | 33.83
14 | 10.47 | 13.50 | 16.99 | 24.12 | 28.06 | 31.19 | 35.52
15 | 10.93 | 14.10 | 17.81 | 24.85 | 28.70 | 31.51 | 36.27
16 | 11.29 | 14.58 | 18.37 | 25.37 | 29.35 | 32.22 | 37.20
17 | 11.63 | 15.07 | 18.75 | 26.02 | 30.14 | 33.01 | 38.15
18 | 11.89 | 15.54 | 19.10 | 26.54 | 30.72 | 33.65 | 39.07
19 | 12.29 | 15.89 | 19.41 | 27.17 | 31.45 | 34.51 | 40.05
20 | 12.59 | 16.14 | 19.78 | 27.63 | 32.05 | 35.16 | 40.92
21 | 12.95 | 16.36 | 20.09 | 28.10 | 32.58 | 35.78 | 41.73
22 | 13.26 | 16.66 | 20.39 | 28.73 | 33.30 | 36.59 | 42.76
23 | 13.55 | 16.87 | 20.96 | 29.22 | 33.89 | 37.25 | 43.50
24 | 13.85 | 17.07 | 21.59 | 29.84 | 34.59 | 38.11 | 44.59
25 | 14.17 | 17.32 | 22.31 | 30.32 | 35.13 | 38.68 | 45.35
26 | 14.46 | 17.53 | 23.02 | 30.94 | 35.90 | 39.48 | 46.80
27 | 14.86 | 17.78 | 23.72 | 31.37 | 36.43 | 40.08 | 48.53
28 | 15.34 | 17.98 | 24.32 | 31.77 | 36.92 | 40.67 | 50.32
29 | 15.78 | 18.19 | 25.05 | 32.20 | 37.39 | 41.20 | 51.93
30 | 16.29 | 18.46 | 25.70 | 32.65 | 37.93 | 41.79 | 53.68
31 | 16.69 | 18.61 | 26.44 | 33.04 | 38.40 | 42.32 | 55.44
32 | 17.14 | 19.06 | 27.11 | 33.46 | 38.94 | 43.34 | 57.17
33 | 17.60 | 19.58 | 27.71 | 33.88 | 39.41 | 44.57 | 58.86
34 | 18.06 | 20.09 | 28.45 | 34.60 | 40.57 | 45.80 | 60.59
35 | 18.51 | 20.61 | 29.02 | 35.34 | 41.69 | 47.03 | 62.32
36 | 18.97 | 21.11 | 29.49 | 36.13 | 42.74 | 48.31 | 64.05
37 | 19.42 | 21.57 | 29.97 | 36.80 | 43.86 | 49.54 | 65.77
38 | 19.67 | 22.08 | 30.41 | 37.53 | 45.08 | 50.72 | 67.51
39 | 19.91 | 22.55 | 30.82 | 38.28 | 46.18 | 52.02 | 69.29
40 | 20.29 | 22.99 | 31.29 | 39.07 | 47.23 | 53.18 | 70.91
41 | 20.71 | 23.44 | 31.70 | 39.43 | 48.35 | 54.47 | 72.63
42 | 21.10 | 23.92 | 32.13 | 40.27 | 49.41 | 55.75 | 74.36
43 | 21.52 | 24.32 | 32.54 | 41.16 | 50.64 | 56.98 | 76.12
44 | 21.90 | 24.80 | 32.95 | 42.11 | 51.68 | 58.26 | 77.83
45 | 22.27 | 25.25 | 33.31 | 43.00 | 52.81 | 59.51 | 79.55
46 | 22.69 | 25.72 | 33.97 | 43.82 | 53.92 | 60.73 | 81.27
47 | 23.09 | 26.17 | 34.61 | 44.77 | 55.14 | 62.02 | 82.96
48 | 23.51 | 26.52 | 35.37 | 45.66 | 56.26 | 63.29 | 84.44
49 | 23.88 | 26.85 | 35.73 | 46.51 | 57.26 | 64.59 | 85.29
50 | 24.21 | 27.08 | 36.06 | 47.40 | 58.37 | 65.81 | 86.36
51 | 24.69 | 27.35 | 36.70 | 48.35 | 59.48 | 67.04 | 87.28
52 | 25.02 | 27.59 | 37.41 | 49.23 | 60.70 | 68.28 | 88.13
53 | 25.50 | 27.86 | 38.04 | 50.12 | 61.76 | 69.56 | 89.00
54 | 25.82 | 28.05 | 38.67 | 51.07 | 62.82 | 70.74 | 89.85
55 | 26.24 | 28.32 | 39.45 | 51.95 | 63.93 | 71.91 | 90.61
56 | 26.64 | 28.52 | 40.08 | 52.78 | 65.14 | 73.20 | 91.41
57 | 27.06 | 28.79 | 40.70 | 53.63 | 66.21 | 74.47 | 92.23
58 | 27.42 | 28.98 | 41.42 | 54.58 | 67.32 | 75.09 | 92.98
59 | 27.86 | 29.18 | 42.11 | 55.48 | 68.01 | 75.52 | 93.64
60 | 28.19 | 29.39 | 42.73 | 56.41 | 68.39 | 76.76 | 94.36
61 | 28.66 | 29.58 | 43.49 | 57.25 | 69.19 | 77.94 | 95.61
62 | 28.99 | 29.86 | 44.13 | 58.21 | 69.63 | 79.14 | 97.13
63 | 29.45 | 30.31 | 44.81 | 59.15 | 70.02 | 79.96 | 98.66
64 | 29.79 | 30.49 | 45.47 | 60.04 | 70.46 | 80.45 | 100.20
65 | 30.22 | 30.57 | 46.06 | 60.63 | 70.82 | 80.88 | 101.77
66 | 30.59 | 30.92 | 46.79 | 60.88 | 71.26 | 81.28 | 103.25
67 | 31.02 | 31.35 | 47.55 | 61.52 | 71.61 | 81.74 | 104.87
68 | 31.40 | 31.73 | 48.20 | 62.40 | 71.90 | 82.14 | 106.31
69 | 31.84 | 32.16 | 48.81 | 63.35 | 72.31 | 82.56 | 107.88
70 | 32.20 | 32.54 | 49.57 | 63.63 | 72.60 | 82.88 | 109.40

Commercial Pickup On Demand Service

Add price specified for Parcel Post Pickup On Demand service (section 1405.6) for each Pickup On Demand stop.

Commercial Plus Flat Rate Envelope

| ($)
Commercial Plus Regular Flat Rate Envelope, per piece | 4.80
Commercial Plus Padded Flat Rate Envelope, per piece | 4.99
Commercial Plus Legal Flat Rate Envelope, per piece | 4.99

Commercial Plus Flat Rate Box

Size | Delivery to domestic address ($) | Delivery to APO/FPO/DPO address ($)
Small Flat Rate Box | 5.10 | 5.10
Medium Flat Rate Boxes | 10.25 | 10.25
Large Flat Rate Boxes | 14.10 | 12.10

Commercial Plus Balloon Price

In Zones 1-4 (including local), parcels weighing less than 20 pounds but measuring more than 84 inches in combined length and girth (but not more than 108 inches) are charged the applicable price for a 20-pound parcel.

Commercial Plus Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Critical Mail

Shape | Local, zones 1 & 2 ($) | Zone 3 ($) | Zone 4 ($) | Zone 5 ($) | Zone 6 ($) | Zone 7 ($) | Zone 8 ($)
Letter | 3.50 | 3.50 | 3.50 | 3.50 | 3.50 | 3.50 | 3.50
Flat | 4.25 | 4.25 | 4.25 | 4.25 | 4.25 | 4.25 | 4.25

Regional Rate Boxes

Size | Local, zones 1 & 2 ($) | Zone 3 ($) | Zone 4 ($) | Zone 5 ($) | Zone 6 ($) | Zone 7 ($) | Zone 8 ($)
A | 5.04 | 5.16 | 5.66 | 7.26 | 7.95 | 8.65 | 9.62
B | 5.90 | 6.98 | 8.18 | 10.80 | 12.74 | 13.73 | 15.46
C | 14.44 | 18.73 | 22.66 | 31.52 | 35.66 | 38.99 | 45.02

Commercial Plus Cubic

Maximum cubic feet | Local, zones 1 & 2 ($) | Zone 3 ($) | Zone 4 ($) | Zone 5 ($) | Zone 6 ($) | Zone 7 ($) | Zone 8 ($)
0.10 | 4.39 | 4.45 | 4.54 | 4.73 | 4.91 | 5.10 | 5.38
0.20 | 4.86 | 4.98 | 5.15 | 5.30 | 5.44 | 5.61 | 6.05
0.30 | 5.09 | 5.47 | 6.05 | 7.46 | 8.29 | 8.99 | 9.88
0.40 | 5.30 | 6.17 | 7.10 | 8.88 | 10.43 | 11.44 | 12.89
0.50 | 6.02 | 7.22 | 8.27 | 11.02 | 12.86 | 14.20 | 16.24

Commercial Pickup On Demand Service

Add price specified for Parcel Post Pickup On Demand service (section 1405.6) for each Pickup On Demand stop.

Open and Distribute (PMOD)

a. DDU

Container | Local, zones 1 & 2 ($) | Zone 3 ($) | Zone 4 ($) | Zone 5 ($) | Zone 6 ($) | Zone 7 ($) | Zone 8 ($)
Half Tray | 7.26 | 8.52 | 10.37 | 14.09 | 16.58 | 17.61 | 18.20
Full Tray | 8.68 | 11.12 | 13.93 | 20.48 | 25.15 | 25.31 | 26.41
EMM Tray | 8.93 | 11.39 | 14.32 | 22.41 | 27.33 | 27.84 | 29.13
Flat Tub | 14.14 | 15.95 | 22.80 | 31.14 | 37.94 | 46.05 | 50.80

b. Processing Facilities

Container | Local, zones 1 & 2 ($) | Zone 3 ($) | Zone 4 ($) | Zone 5 ($) | Zone 6 ($) | Zone 7 ($) | Zone 8 ($)
Half Tray | 5.39 | 6.77 | 8.36 | 12.20 | 14.79 | 16.36 | 16.97
Full Tray | 6.43 | 8.70 | 11.13 | 17.75 | 22.30 | 22.64 | 23.72
EMM Tray | 6.59 | 8.79 | 11.63 | 19.61 | 24.46 | 25.15 | 26.43
Flat Tub | 10.27 | 12.52 | 18.50 | 27.83 | 34.84 | 42.40 | 47.22

2115 Parcel Select

2115.1 Description

* * * * *

* * * * *

2115.2 Size and Weight Limitations

Parcel Select

| Length | Height | Thickness | Weight
Minimum | Large enough to accommodate postage, address, and other required elements on the address side |  |  | None.
Maximum | 130 inches in combined length and girth |  |  | 70 pounds.

Lightweight

| Length | Height | Thickness | Weight
Minimum | Large enough to accommodate postage, address, and other required elements on the address side |  |  | None.
Maximum | 108 inches in combined length and girth |  |  | < 16 ounces.

2115.3 Minimum Volume Requirements

2115.4 Price Categories

Destination Entered

• DDU—Entered at a designated destination delivery unit, or other equivalent facility

○ DDU

○ Balloon Price

○ Oversized

○ Forwarding and Returns

• DSCF—Entered at a designated destination processing and distribution center or facility, or other equivalent facility

○ Machinable — 5-Digit

○ Nonmachinable — 3-Digit, 5-Digit

○ Balloon Price

○ Oversized

○ Forwarding and Returns

• DNDC—Entered at a designated destination network distribution center, auxiliary service facility, or other equivalent facility

○ Machinable

○ Nonmachinable

○ Balloon Price

○ Oversized

○ Forwarding and Returns

• Machinable Lightweight

○ 5-Digit DDU, DSCF, and DNDC entry levels Commercial eligible

○ NDC DNDC and Origin entry levels Commercial eligible

○ Mixed NDC Origin entry level Commercial eligible

• Irregular Lightweight (Do not meet the machinability requirements for machinable parcels.)

○ 5-Digit DDU, DSCF, and DNDC entry levels Commercial eligible

○ SCF DSCF and DNDC entry levels Commercial eligible

○ NDC DNDC and Origin entry levels Commercial eligible

○ Mixed NDC Origin entry level Commercial eligible

• Regional Ground

○ OSCF

○ ONDC

2115.5 Optional Features

The following additional postal services may be available in conjunction with the product specified in this section:

• Pickup On Demand Service

• Ancillary Services (1505)

○ Address Correction Service (1505.1)

○ Certificate of Mailing (1505.6)

○ Collect On Delivery (1505.7)

○ Delivery Confirmation (1505.8)

○ Insurance (1505.9)

○ Return Receipt (1505.13)

○ Return Receipt for Merchandise (1505.14)

○ Restricted Delivery (1505.15)

○ Signature Confirmation (1505.17)

○ Special Handling (1505.18)

• Competitive Ancillary Services (2645)

○ Adult Signature Service (2645.1)

○ Package Intercept Service (2645.2)

2115.6 Prices

Destination Entered—DDU

a. DDU

Maximum weight (pounds) | DDU ($)
1 | 2.02
2 | 2.02
3 | 2.04
4 | 2.06
5 | 2.08
6 | 2.10
7 | 2.13
8 | 2.16
9 | 2.19
10 | 2.22
11 | 2.25
12 | 2.28
13 | 2.31
14 | 2.34
15 | 2.38
16 | 2.42
17 | 2.47
18 | 2.51
19 | 2.56
20 | 2.60
21 | 2.65
22 | 2.69
23 | 2.74
24 | 2.78
25 | 2.83
26 | 2.87
27 | 2.92
28 | 2.96
29 | 3.01
30 | 3.05
31 | 3.10
32 | 3.14
33 | 3.19
34 | 3.23
35 | 3.28
36 | 3.32
37 | 3.37
38 | 3.41
39 | 3.46
40 | 3.50
41 | 3.55
42 | 3.59
43 | 3.64
44 | 3.68
45 | 3.73
46 | 3.77
47 | 3.82
48 | 3.86
49 | 3.91
50 | 3.95
51 | 4.00
52 | 4.04
53 | 4.09
54 | 4.13
55 | 4.18
56 | 4.22
57 | 4.27
58 | 4.31
59 | 4.36
60 | 4.40
61 | 4.45
62 | 4.49
63 | 4.54
64 | 4.58
65 | 4.63
66 | 4.67
67 | 4.72
68 | 4.76
69 | 4.81
70 | 4.85
Oversized | 7.62

b. Balloon Price

Pieces exceeding 84 inches in length and girth combined (but not more than 108 inches) and weighing less than 20 pounds are subject to a price equal to that for a 20-pound parcel for the zone to which the parcel is addressed.

c. Oversized Pieces

Regardless of weight, any piece that measures more than 108 inches (but not more than 130 inches) in length plus girth must pay the oversized price.

Destination Entered—DSCF

a. DSCF—5-Digit Machinable

Maximum weight (pounds) | DSCF 3-digit ($) | DSCF 5-digit ($)
1 | 3.80 | 2.80
2 | 3.80 | 2.80
3 | 4.02 | 3.02
4 | 4.23 | 3.23
5 | 4.43 | 3.43
6 | 4.62 | 3.62
7 | 4.79 | 3.79
8 | 4.95 | 3.95
9 | 5.11 | 4.11
10 | 5.26 | 4.26
11 | 5.40 | 4.40
12 | 5.54 | 4.54
13 | 5.68 | 4.68
14 | 5.82 | 4.82
15 | 5.96 | 4.96
16 | 6.10 | 5.10
17 | 6.24 | 5.24
18 | 6.38 | 5.38
19 | 6.52 | 5.52
20 | 6.66 | 5.66
21 | 6.80 | 5.80
22 | 6.95 | 5.95
23 | 7.10 | 6.10
24 | 7.25 | 6.25
25 | 7.39 | 6.39
26 | 7.53 | 6.53
27 | 7.68 | 6.68
28 | 7.82 | 6.82
29 | 7.96 | 6.96
30 | 8.09 | 7.09
31 | 8.23 | 7.23
32 | 8.37 | 7.37
33 | 8.52 | 7.52
34 | 8.67 | 7.67
35 | 8.80 | 7.80
36 | 8.93 | 7.93
37 | 9.06 | 8.06
38 | 9.21 | 8.21
39 | 9.35 | 8.35
40 | 9.48 | 8.48
41 | 9.61 | 8.61
42 | 9.74 | 8.74
43 | 9.87 | 8.87
44 | 10.00 | 9.00
45 | 10.13 | 9.13
46 | 10.26 | 9.26
47 | 10.39 | 9.39
48 | 10.52 | 9.52
49 | 10.65 | 9.65
50 | 10.78 | 9.78
51 | 10.91 | 9.91
52 | 11.04 | 10.04
53 | 11.17 | 10.17
54 | 11.32 | 10.32
55 | 11.46 | 10.46
56 | 11.60 | 10.60
57 | 11.75 | 10.75
58 | 11.90 | 10.90
59 | 12.06 | 11.06
60 | 12.20 | 11.20
61 | 12.34 | 11.34
62 | 12.48 | 11.48
63 | 12.62 | 11.62
64 | 12.76 | 11.76
65 | 12.89 | 11.89
66 | 13.02 | 12.02
67 | 13.16 | 12.16
68 | 13.30 | 12.30
69 | 13.45 | 12.45
70 | 13.60 | 12.60
Oversized | 17.17 | 17.17

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

Destination Entered—DNDC

a. DNDC—Machinable

Maximum weight (pounds) | DNDC Zones 1 & 2 ($) | DNDC Zone 3 ($) | DNDC Zone 4 ($) | DNDC Zone 5 ($)
1 | 3.67 | 4.60 | 5.49 | 6.38
2 | 3.67 | 4.60 | 5.49 | 6.38
3 | 3.96 | 5.38 | 6.62 | 7.34
4 | 4.24 | 6.04 | 7.46 | 8.12
5 | 4.51 | 6.66 | 8.03 | 8.82
6 | 4.77 | 7.16 | 8.65 | 9.47
7 | 5.02 | 7.71 | 9.28 | 10.13
8 | 5.27 | 8.27 | 9.88 | 10.77
9 | 5.52 | 8.79 | 10.47 | 11.34
10 | 5.77 | 9.34 | 11.04 | 11.93
11 | 6.02 | 9.87 | 11.39 | 12.34
12 | 6.27 | 10.34 | 11.61 | 12.60
13 | 6.52 | 10.78 | 11.87 | 12.90
14 | 6.77 | 11.13 | 12.09 | 13.10
15 | 7.01 | 11.48 | 12.31 | 13.32
16 | 7.25 | 11.87 | 12.68 | 13.75
17 | 7.49 | 12.06 | 12.91 | 13.93
18 | 7.72 | 12.28 | 13.12 | 14.16
19 | 7.95 | 12.52 | 13.34 | 14.38
20 | 8.17 | 12.71 | 13.47 | 14.51
21 | 8.40 | 13.08 | 13.85 | 14.90
22 | 8.63 | 13.32 | 14.11 | 15.12
23 | 8.87 | 13.60 | 14.36 | 15.36
24 | 9.10 | 13.83 | 14.61 | 15.56
25 | 9.33 | 14.01 | 14.79 | 15.72
26 | 9.56 | 14.28 | 15.09 | 15.92
27 | 9.79 | 14.58 | 15.36 | 16.16
28 | 10.02 | 14.80 | 15.57 | 16.35
29 | 10.25 | 15.01 | 15.79 | 16.59
30 | 10.46 | 15.26 | 16.03 | 16.84
31 | 10.68 | 15.69 | 16.50 | 17.35
32 | 10.90 | 15.94 | 16.76 | 17.58
33 | 11.12 | 16.17 | 16.98 | 17.84
34 | 11.34 | 16.39 | 17.28 | 18.15
35 | 11.56 | 16.56 | 17.48 | 18.33

b. DNDC—Non-Machinable

Maximum weight (pounds) | DNDC Zones 1 & 2 ($) | DNDC Zone 3 ($) | DNDC Zone 4 ($) | DNDC Zone 5 ($)
1 | 6.03 | 6.96 | 7.85 | 8.74
2 | 6.03 | 6.96 | 7.85 | 8.74
3 | 6.32 | 7.74 | 8.98 | 9.70
4 | 6.60 | 8.40 | 9.82 | 10.48
5 | 6.87 | 9.02 | 10.39 | 11.18
6 | 7.13 | 9.52 | 11.01 | 11.83
7 | 7.38 | 10.07 | 11.64 | 12.49
8 | 7.63 | 10.63 | 12.24 | 13.13
9 | 7.88 | 11.15 | 12.83 | 13.70
10 | 8.13 | 11.70 | 13.40 | 14.29
11 | 8.38 | 12.23 | 13.75 | 14.70
12 | 8.63 | 12.70 | 13.97 | 14.96
13 | 8.88 | 13.14 | 14.23 | 15.26
14 | 9.13 | 13.49 | 14.45 | 15.46
15 | 9.37 | 13.84 | 14.67 | 15.68
16 | 9.61 | 14.23 | 15.04 | 16.11
17 | 9.85 | 14.42 | 15.27 | 16.29
18 | 10.08 | 14.64 | 15.48 | 16.52
19 | 10.31 | 14.88 | 15.70 | 16.74
20 | 10.53 | 15.07 | 15.83 | 16.87
21 | 10.76 | 15.44 | 16.21 | 17.26
22 | 10.99 | 15.68 | 16.47 | 17.48
23 | 11.23 | 15.96 | 16.72 | 17.72
24 | 11.46 | 16.19 | 16.97 | 17.92
25 | 11.69 | 16.37 | 17.15 | 18.08
26 | 11.92 | 16.64 | 17.45 | 18.26
27 | 12.15 | 16.94 | 17.72 | 18.52
28 | 12.38 | 17.16 | 17.93 | 18.71
29 | 12.61 | 17.37 | 18.15 | 18.95
30 | 12.82 | 17.62 | 18.39 | 19.20
31 | 13.04 | 18.05 | 18.86 | 19.71
32 | 13.26 | 18.30 | 19.12 | 19.94
33 | 13.48 | 18.53 | 19.34 | 20.20
34 | 13.70 | 18.75 | 19.64 | 20.51
35 | 13.92 | 18.92 | 19.84 | 20.69
36 | 14.14 | 19.14 | 20.11 | 20.98
37 | 14.36 | 19.37 | 20.39 | 21.27
38 | 14.58 | 19.60 | 20.65 | 21.56
39 | 14.80 | 19.84 | 20.91 | 21.83
40 | 15.02 | 20.03 | 21.19 | 22.11
41 | 15.24 | 20.31 | 21.38 | 22.37
42 | 15.46 | 20.47 | 21.55 | 22.59
43 | 15.68 | 20.67 | 21.71 | 22.86
44 | 15.89 | 20.94 | 21.94 | 23.16
45 | 16.10 | 21.13 | 22.31 | 23.40
46 | 16.31 | 21.59 | 22.72 | 24.05
47 | 16.52 | 21.79 | 22.89 | 24.66
48 | 16.73 | 22.06 | 23.10 | 25.34
49 | 16.93 | 22.32 | 23.32 | 26.01
50 | 17.13 | 22.45 | 23.40 | 26.58
51 | 17.33 | 22.67 | 23.63 | 27.29
52 | 17.53 | 22.98 | 23.83 | 28.05
53 | 17.75 | 23.19 | 24.00 | 28.81
54 | 17.98 | 23.39 | 24.21 | 29.58
55 | 18.21 | 23.59 | 24.43 | 30.00
56 | 18.45 | 23.78 | 24.65 | 30.26
57 | 18.69 | 23.92 | 24.80 | 30.60
58 | 18.94 | 24.18 | 25.03 | 30.95
59 | 19.18 | 24.35 | 25.24 | 31.25
60 | 19.42 | 24.49 | 25.39 | 31.55
61 | 19.65 | 24.65 | 25.54 | 31.76
62 | 19.88 | 24.86 | 25.82 | 32.10
63 | 20.11 | 25.02 | 26.07 | 32.37
64 | 20.34 | 25.22 | 26.36 | 32.73
65 | 20.57 | 25.40 | 26.60 | 32.99
66 | 20.80 | 25.61 | 26.90 | 33.36
67 | 21.03 | 25.75 | 27.16 | 33.61
68 | 21.26 | 25.96 | 27.40 | 33.96
69 | 21.48 | 26.11 | 27.65 | 34.22
70 | 21.70 | 26.33 | 27.96 | 34.56
Oversized | 26.99 | 38.10 | 51.61 | 53.64

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

Non-Destination Entered—ONDC Presort

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

BILLING CODE 7710-12-C

BILLING CODE 7710-12-C

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

a. Nonpresort (Continued)

Maximum Weight (pounds) | Zones 1 & 2 ($) | Zone 3 ($) | Zone 4 ($) | Zone 5 ($) | Zone 6 ($) | Zone 7 ($) | Zone 8 ($)
51 | 19.89 | 25.23 | 30.66 | 36.13 | 41.73 | 47.29 | 55.05
52 | 20.10 | 25.41 | 30.90 | 36.48 | 42.30 | 48.07 | 55.97
53 | 20.32 | 25.59 | 31.15 | 36.83 | 42.87 | 48.84 | 56.90
54 | 20.53 | 25.77 | 31.39 | 37.17 | 43.45 | 49.62 | 57.82
55 | 20.74 | 25.95 | 31.64 | 37.52 | 44.02 | 50.39 | 58.75
56 | 20.95 | 26.13 | 31.88 | 37.87 | 44.60 | 51.17 | 59.67
57 | 21.17 | 26.31 | 32.13 | 38.22 | 45.17 | 51.94 | 60.60
58 | 21.38 | 26.50 | 32.37 | 38.56 | 45.75 | 52.72 | 61.52
59 | 21.59 | 26.68 | 32.61 | 38.91 | 46.32 | 53.49 | 62.45
60 | 21.80 | 26.86 | 32.86 | 39.26 | 46.90 | 54.27 | 63.37
61 | 22.02 | 27.04 | 33.10 | 39.61 | 47.47 | 55.04 | 64.30
62 | 22.23 | 27.22 | 33.35 | 39.95 | 48.05 | 55.82 | 65.22
63 | 22.44 | 27.40 | 33.59 | 40.30 | 48.62 | 56.59 | 66.15
64 | 22.65 | 27.58 | 33.84 | 40.65 | 49.20 | 57.37 | 67.07
65 | 22.87 | 27.76 | 34.08 | 41.00 | 49.77 | 58.14 | 68.00
66 | 23.08 | 27.94 | 34.32 | 41.35 | 50.35 | 58.92 | 68.92
67 | 23.29 | 28.12 | 34.57 | 41.69 | 50.92 | 59.69 | 69.84
68 | 23.50 | 28.31 | 34.81 | 42.04 | 51.50 | 60.46 | 70.77
69 | 23.71 | 28.49 | 35.06 | 42.39 | 52.07 | 61.24 | 71.69
70 | 23.93 | 28.67 | 35.30 | 42.74 | 52.65 | 62.01 | 72.62
Oversized | 61.80 | 64.65 | 65.94 | 67.89 | 90.92 | 96.82 | 107.16

b. Balloon Price

Pieces exceeding 84 inches in length and girth combined (but not more than 108 inches) and weighing less than 20 pounds are subject to a price equal to that for a 20-pound parcel for the zone to which the parcel is addressed.

c. Oversized Pieces

Regardless of weight, any piece that measures more than 108 inches (but not more than 130 inches) in length plus girth must pay the oversized price.

Machinable Lightweight Parcels
[Greater than 3.5 ounces]
Entry Point/Sortation Level: Maximum weight (ounces) | Entry Point/Sortation Level: DDU/5-digit ($) | Entry Point/Sortation Level: DSCF/5-digit ($) | Entry Point/Sortation Level: DNDC/5-digit ($) | Entry Point/Sortation Level: DNDC/NDC ($) | Entry Point/Sortation Level: None/NDC ($) | Entry Point/Sortation Level: None/Mixed NDC ($)
1 | N/A | N/A | N/A | N/A | N/A | N/A
2 | N/A | N/A | N/A | N/A | N/A | N/A
3 | N/A | N/A | N/A | N/A | N/A | N/A
4 | 0.82 | 0.86 | 0.92 | 1.27 | 1.31 | 1.72
5 | 0.84 | 0.89 | 0.97 | 1.32 | 1.37 | 1.78
6 | 0.86 | 0.93 | 1.02 | 1.36 | 1.43 | 1.84
7 | 0.89 | 0.96 | 1.07 | 1.41 | 1.50 | 1.91
8 | 0.91 | 1.00 | 1.12 | 1.46 | 1.56 | 1.97
9 | 0.93 | 1.03 | 1.17 | 1.51 | 1.62 | 2.03
10 | 0.96 | 1.07 | 1.22 | 1.56 | 1.68 | 2.09
11 | 0.98 | 1.10 | 1.27 | 1.61 | 1.75 | 2.16
12 | 1.01 | 1.14 | 1.31 | 1.66 | 1.82 | 2.22
13 | 1.03 | 1.17 | 1.36 | 1.71 | 1.88 | 2.28
14 | 1.05 | 1.21 | 1.41 | 1.76 | 1.94 | 2.34
15 | 1.08 | 1.24 | 1.46 | 1.81 | 2.01 | 2.41
16 | 1.10 | 1.28 | 1.51 | 1.86 | 2.07 | 2.47

Irregular Lightweight Parcels

Entry Point/Sortation Level: Maximum weight (ounces) | Entry Point/Sortation Level: DDU/5-digit ($) | Entry Point/Sortation Level: DSCF/5-digit ($) | Entry Point/Sortation Level: DNDC/5-digit ($) | Entry Point/Sortation Level: DSCF/SCF ($) | Entry Point/Sortation Level: DNDC/SCF ($) | Entry Point/Sortation Level: DNDC/NDC ($) | Entry Point/Sortation Level: None/NDC ($) | Entry Point/Sortation Level: None/Mixed NDC ($)
1 | 0.80 | 0.83 | 0.88 | 0.87 | 0.92 | 1.36 | 1.39 | 1.79
2 | 0.80 | 0.83 | 0.88 | 0.87 | 0.92 | 1.36 | 1.39 | 1.79
3 | 0.80 | 0.83 | 0.88 | 0.87 | 0.92 | 1.36 | 1.39 | 1.79
4 | 0.82 | 0.86 | 0.92 | 0.90 | 0.96 | 1.40 | 1.44 | 1.85
5 | 0.84 | 0.89 | 0.97 | 0.93 | 1.01 | 1.45 | 1.50 | 1.91
6 | 0.86 | 0.93 | 1.02 | 0.97 | 1.06 | 1.49 | 1.56 | 1.97
7 | 0.89 | 0.96 | 1.07 | 1.00 | 1.11 | 1.54 | 1.63 | 2.04
8 | 0.91 | 1.00 | 1.12 | 1.04 | 1.16 | 1.59 | 1.69 | 2.10
9 | 0.93 | 1.03 | 1.17 | 1.07 | 1.21 | 1.64 | 1.75 | 2.16
10 | 0.96 | 1.07 | 1.22 | 1.11 | 1.26 | 1.69 | 1.81 | 2.22
11 | 0.98 | 1.10 | 1.27 | 1.14 | 1.30 | 1.74 | 1.88 | 2.29
12 | 1.01 | 1.14 | 1.31 | 1.18 | 1.35 | 1.79 | 1.95 | 2.35
13 | 1.03 | 1.17 | 1.36 | 1.21 | 1.40 | 1.84 | 2.01 | 2.41
14 | 1.05 | 1.21 | 1.41 | 1.25 | 1.45 | 1.89 | 2.07 | 2.47
15 | 1.08 | 1.24 | 1.46 | 1.28 | 1.50 | 1.94 | 2.14 | 2.54
16 | 1.10 | 1.28 | 1.51 | 1.32 | 1.55 | 1.99 | 2.20 | 2.60

Regional Ground

a. OSCF

Weight (pounds) | Zones L, 1, 2, 3 ($)
1 | 4.03
2 | 4.03
3 | 4.85
4 | 5.18
5 | 5.43

b. ONDC

2120 Parcel Return Service

* * *

* * *

2120.4 Price Categories

• RNDC—Contains merchandise and is retrieved in bulk at a network distribution center, or other equivalent facility

○ Machinable

○ Nonmachinable

○ Balloon Price

○ Oversized

• RSCF—Contains merchandise and is retrieved in bulk at a return sectional center facility, or other equivalent facility

○ Machinable

○ Nonmachinable

○ Balloon Price

○ Oversized

• RDU—Contains merchandise and is retrieved in bulk at a designated destination delivery unit, or other equivalent facility

○ Machinable

○ Nonmachinable

○ Balloon Price

○ Oversized

2120.5 Optional Features

The following additional services may be available in conjunction with the product specified in this section:

• Ancillary Services (1505)

○ Certificate of Mailing (1505.6)

2120.6 Prices

RNDC Entered

BILLING CODE 7710-12-P

BILLING CODE 7710-12-C

c. Balloon Price

RNDC entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price.

RSCF Entered

a. Machinable RSCF

Maximum weight (pounds) | RSCF ($)
1 | 2.80
2 | 3.16
3 | 3.40
4 | 3.64
5 | 3.88
6 | 4.17
7 | 4.43
8 | 4.69
9 | 4.98
10 | 5.24
11 | 5.52
12 | 5.80
13 | 6.07
14 | 6.35
15 | 6.62
16 | 6.87
17 | 7.12
18 | 7.37
19 | 7.62
20 | 7.87
21 | 8.07
22 | 8.27
23 | 8.47
24 | 8.67
25 | 8.83
26 | 8.99
27 | 9.15
28 | 9.31
29 | 9.47
30 | 9.63
31 | 9.79
32 | 9.95
33 | 10.11
34 | 10.27
35 | 10.43

Maximum weight (pounds) | RSCF ($)
1 | 2.80
2 | 3.16
3 | 3.40
4 | 3.64
5 | 3.88
6 | 4.17
7 | 4.43
8 | 4.69
9 | 4.98
10 | 5.24
11 | 5.52
12 | 5.80
13 | 6.07
14 | 6.35
15 | 6.62
16 | 6.87
17 | 7.12
18 | 7.37
19 | 7.62
20 | 7.87
21 | 8.07
22 | 8.27
23 | 8.47
24 | 8.67
25 | 8.83
26 | 8.99
27 | 9.15
28 | 9.31
29 | 9.47
30 | 9.63
31 | 9.79
32 | 9.95
33 | 10.11
34 | 10.27
35 | 10.43
36 | 10.59
37 | 10.75
38 | 10.87
39 | 10.99
40 | 11.11
41 | 11.23
42 | 11.35
43 | 11.47
44 | 11.55
45 | 11.63
46 | 11.71
47 | 11.79
48 | 11.84
49 | 11.89
50 | 11.94
51 | 11.99
52 | 12.04
53 | 12.09
54 | 12.14
55 | 12.19
56 | 12.24
57 | 12.29
58 | 12.33
59 | 12.37
60 | 12.41
61 | 12.45
62 | 12.49
63 | 12.53
64 | 12.55
65 | 12.57
66 | 12.59
67 | 12.61
68 | 12.63
69 | 12.65
70 | 12.67
Oversized | 24.31

c. Balloon Price

RSCF entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price.

RDU Entered

a. Machinable RDU

Maximum weight (pounds) | RDU ($)
1 | 2.04
2 | 2.07
3 | 2.10
4 | 2.13
5 | 2.16
6 | 2.19
7 | 2.22
8 | 2.25
9 | 2.28
10 | 2.31
11 | 2.34
12 | 2.43
13 | 2.51
14 | 2.59
15 | 2.67
16 | 2.74
17 | 2.82
18 | 2.88
19 | 2.96
20 | 3.02
21 | 3.08
22 | 3.13
23 | 3.19
24 | 3.24
25 | 3.31
26 | 3.36
27 | 3.41
28 | 3.45
29 | 3.50
30 | 3.54
31 | 3.58
32 | 3.64
33 | 3.68
34 | 3.71
35 | 3.75

b. Nonmachinable RDU

Maximum weight (pounds) | RDU ($)
1 | 2.04
2 | 2.07
3 | 2.10
4 | 2.13
5 | 2.16
6 | 2.19
7 | 2.22
8 | 2.25
9 | 2.28
10 | 2.31
11 | 2.34
12 | 2.43
13 | 2.51
14 | 2.59
15 | 2.67
16 | 2.74
17 | 2.82
18 | 2.88
19 | 2.96
20 | 3.02
21 | 3.08
22 | 3.13
23 | 3.19
24 | 3.24
25 | 3.31
26 | 3.36
27 | 3.41
28 | 3.45
29 | 3.50
30 | 3.54
31 | 3.58
32 | 3.64
33 | 3.68
34 | 3.71
35 | 3.75
36 | 3.80
37 | 3.83
38 | 3.87
39 | 3.90
40 | 3.93
41 | 3.97
42 | 4.00
43 | 4.03
44 | 4.06
45 | 4.09
46 | 4.12
47 | 4.14
48 | 4.17
49 | 4.20
50 | 4.22
51 | 4.24
52 | 4.28
53 | 4.31
54 | 4.33
55 | 4.35
56 | 4.38
57 | 4.40
58 | 4.42
59 | 4.44
60 | 4.45
61 | 4.47
62 | 4.49
63 | 4.51
64 | 4.53
65 | 4.54
66 | 4.56
67 | 4.57
68 | 4.59
69 | 4.61
70 | 4.62
Oversized | 7.91

c. Balloon Price

RDU entered pieces exceeding 84 inches in length and girth combined, but not more than 108 inches, and weighing less than 20 pounds are subject to a price equal to that for a 20-pound parcel for the zone to which the parcel is addressed.

2125 First-Class Package Service

* * * * *

2125.2 Size and Weight Limitations

Commercial Base
[Mixed ADC/ single-piece, ADC, 3-digit, and 5-digit]
| Length | Height | Thickness | Weight
Minimum | 3.5 inches | 3.0 inches | 0.05 inch | None.
Maximum | 18 inches | 15 inches | 22 inches | 13 ounces.

Commercial Plus
[Mixed ADC/ single-piece, ADC, 3-digit, and 5-digit]
| Length | Height | Thickness | Weight
Minimum | 6 inches | 3.0 inches | 0.25 inch | 3.5 ounces.
Maximum | 18 inches | 15 inches | 22 inches | <16 ounces.

2125.3 Minimum Volume Requirements

First-class package service | Minimum volume requirements
Commercial Base:
Mixed ADC/ Single-Piece | None.
ADC | 500 pieces per mailing.
3-Digit | 500 pieces per mailing.
5-Digit | 500 pieces per mailing.
Commercial Plus | 5000 pieces per year commitment.
Mixed ADC/ Single-Piece | 200 pieces or 50 pounds per mailing.
ADC | 500 pieces per mailing.
3-Digit | 500 pieces per mailing.
5-Digit | 500 pieces per mailing.

2125.4 Price Categories

2125.6 Prices

Commercial Plus

Weight (ounces) | 5-Digit ($) | 3-Digit * ($) | ADC * ($) | Mixed ADC/ Single-Piece ($)
≥ 3.5 and < 16 | 3.29 | 3.49 | 3.69 | 3.97
* For parcels claiming 3-Digit or ADC prices, a $0.05 surcharge applies if the parcels are not barcoded.

Commercial Base

Maximum weight (ounces) | 5-Digit ($) | 3-Digit * ($) | ADC * ($) | Mixed ADC/ Single-Piece ($)
1 | 1.20 | 1.33 | 1.42 | 1.64
2 | 1.20 | 1.33 | 1.42 | 1.64
3 | 1.20 | 1.33 | 1.42 | 1.64
4 | 1.37 | 1.50 | 1.59 | 1.81
5 | 1.54 | 1.67 | 1.76 | 1.98
6 | 1.71 | 1.84 | 1.93 | 2.15
7 | 1.87 | 2.00 | 2.09 | 2.31
8 | 2.04 | 2.17 | 2.26 | 2.48
9 | 2.21 | 2.34 | 2.43 | 2.65
10 | 2.38 | 2.51 | 2.60 | 2.82
11 | 2.55 | 2.68 | 2.77 | 2.99
12 | 2.70 | 2.83 | 2.92 | 3.14
13 | 2.84 | 2.97 | 3.06 | 3.28
* For parcels claiming 3-Digit or ADC prices, a $0.05 surcharge applies if the parcels are not barcoded or are nonmachinable.

2300 International Products

2305 Outbound International Expedited Services

* * * * *

2305.2 Size and Weight Limitations

2305.4 Price Categories

The following price categories are available for the product specified in this section:

• Commercial Base—For selected destination countries, available for customers who prepare and pay for Global Express Guaranteed shipments via permit imprint when used in conjunction with Postal Service-supplied software, online at USPS.com, or by using an authorized PC Postage vendor. The discount applies only to the postage portion of Global Express Guaranteed prices.

• Commercial Plus—For selected destination countries, available for customers who use specifically authorized postage payment methods and must tender at least $100,000 per year of any combination of Global Express Guaranteed, Express Mail International, or Priority Mail International items. The discount applies only to the postage portion of Global Express Guaranteed prices.

Express Mail International

• Flat Rate Envelope—Envelope provided or approved by the Postal Service

○ Canada

○ All Other Countries

• Flat Rate Box—Boxes provided or approved by the Postal Service

○ Canada

○ All Other Countries

• Retail

○ Price Groups 1-17

• Commercial Base—For selected destination countries, available for customers who prepare and pay for Express Mail International shipments via permit imprint when used in conjunction with Postal Service-supplied software that electronically transmits Customs-related functions, online at USPS.com, or by using an authorized PC Postage vendor. The discount applies only to the postage portion of Express Mail International prices.

• Commercial Plus—For selected destination countries, available for customers who use specifically authorized postage payment methods and must tender at least $100,000 per year of any combination of Express Mail International, Global Express Guaranteed, or Priority Mail International items. The discount applies only to the postage portion of Express Mail International prices.

* * *

2305.6 Prices

Global Express Guaranteed Retail Prices
Weight not over (lb.) | Price groups: 1 | Price groups: 2 | Price groups: 3 | Price groups: 4 | Price groups: 5 | Price groups: 6 | Price groups: 7 | Price groups: 8
0.5 | $44.00 | $45.00 | $52.00 | $100.00 | $58.00 | $58.00 | $55.00 | $69.75
1 | 63.35 | 64.95 | 72.45 | 114.50 | 78.75 | 75.25 | 65.35 | 86.50
2 | 67.80 | 71.00 | 79.90 | 128.75 | 87.00 | 83.10 | 73.70 | 101.25
3 | 72.25 | 77.05 | 87.35 | 143.00 | 95.25 | 90.95 | 82.05 | 116.00
4 | 76.70 | 83.10 | 94.80 | 157.25 | 103.50 | 98.80 | 90.40 | 130.75
5 | 80.65 | 89.15 | 102.25 | 171.50 | 111.75 | 106.65 | 98.75 | 145.50
6 | 84.60 | 94.10 | 107.30 | 184.25 | 117.50 | 113.50 | 104.20 | 158.25
7 | 88.55 | 99.05 | 112.35 | 197.00 | 123.25 | 120.35 | 109.65 | 171.00
8 | 92.50 | 104.00 | 117.40 | 209.75 | 129.00 | 127.20 | 115.10 | 183.75
9 | 96.45 | 108.95 | 122.45 | 222.50 | 134.75 | 134.05 | 120.55 | 196.50
10 | 100.40 | 113.90 | 127.50 | 235.25 | 140.50 | 140.90 | 126.00 | 209.25
11 | 104.35 | 117.05 | 131.45 | 248.00 | 145.25 | 146.75 | 130.35 | 218.00
12 | 108.30 | 120.20 | 135.40 | 260.75 | 150.00 | 152.60 | 134.70 | 226.75
13 | 112.25 | 123.35 | 139.35 | 273.50 | 154.75 | 158.45 | 139.05 | 235.50
14 | 116.20 | 126.50 | 143.30 | 286.25 | 159.50 | 164.30 | 143.40 | 244.25
15 | 120.15 | 129.65 | 147.25 | 299.00 | 164.25 | 170.15 | 147.75 | 253.00
16 | 124.10 | 132.80 | 151.20 | 311.75 | 169.00 | 176.00 | 152.10 | 261.75
17 | 128.05 | 135.95 | 155.15 | 324.50 | 173.75 | 181.85 | 156.45 | 270.50
18 | 132.00 | 139.10 | 159.10 | 337.25 | 178.50 | 187.70 | 160.80 | 279.25
19 | 135.95 | 142.25 | 163.05 | 350.00 | 183.25 | 193.55 | 165.15 | 288.00
20 | 139.90 | 145.40 | 167.00 | 362.75 | 188.00 | 199.40 | 169.50 | 296.75
21 | 143.85 | 147.55 | 170.95 | 373.00 | 192.75 | 205.25 | 173.85 | 305.50
22 | 147.80 | 149.70 | 174.90 | 383.25 | 197.50 | 211.10 | 178.20 | 314.25
23 | 151.75 | 151.85 | 178.85 | 393.50 | 202.25 | 216.95 | 182.55 | 323.00
24 | 155.70 | 154.00 | 182.80 | 403.75 | 207.00 | 222.80 | 186.90 | 331.75
25 | 159.65 | 156.15 | 186.75 | 414.00 | 211.75 | 228.65 | 191.25 | 340.50
26 | 163.60 | 158.30 | 190.70 | 424.25 | 216.50 | 234.50 | 195.60 | 349.25
27 | 167.55 | 160.45 | 194.65 | 434.50 | 221.25 | 240.35 | 199.95 | 358.00
28 | 171.50 | 162.60 | 198.60 | 444.75 | 226.00 | 246.20 | 204.30 | 366.75
29 | 175.45 | 164.75 | 202.55 | 455.00 | 230.75 | 252.05 | 208.65 | 375.50
30 | 179.40 | 166.90 | 206.50 | 465.25 | 235.50 | 257.90 | 213.00 | 384.25
31 | 183.35 | 169.05 | 210.45 | 475.50 | 240.25 | 263.75 | 217.35 | 393.00
32 | 187.30 | 171.20 | 214.40 | 485.75 | 245.00 | 269.60 | 221.70 | 401.75
33 | 191.25 | 173.35 | 218.35 | 496.00 | 249.75 | 275.45 | 226.05 | 410.50
34 | 195.20 | 175.50 | 222.30 | 506.25 | 254.50 | 281.30 | 230.40 | 419.25
35 | 199.15 | 177.65 | 226.25 | 516.50 | 259.25 | 287.15 | 234.75 | 428.00
36 | 203.10 | 179.80 | 230.20 | 526.75 | 264.00 | 293.00 | 239.10 | 436.75
37 | 207.05 | 181.95 | 234.15 | 537.00 | 268.75 | 298.85 | 243.45 | 445.50
38 | 211.00 | 184.10 | 238.10 | 547.25 | 273.50 | 304.70 | 247.80 | 454.25
39 | 214.95 | 186.25 | 242.05 | 557.50 | 278.25 | 310.55 | 252.15 | 463.00
40 | 218.90 | 188.40 | 246.00 | 567.75 | 283.00 | 316.40 | 256.50 | 471.75
41 | 222.05 | 190.55 | 249.95 | 578.00 | 287.75 | 322.25 | 260.85 | 480.50
42 | 225.20 | 192.70 | 253.90 | 588.25 | 292.50 | 328.10 | 265.20 | 489.25
43 | 228.35 | 194.85 | 257.85 | 598.50 | 297.25 | 333.95 | 269.55 | 498.00
44 | 231.50 | 197.00 | 261.80 | 608.75 | 302.00 | 339.80 | 273.90 | 506.75
45 | 234.65 | 199.15 | 265.75 | 619.00 | 306.75 | 345.65 | 278.25 | 515.50
46 | 237.80 | 201.30 | 269.70 | 629.25 | 311.50 | 351.50 | 282.60 | 524.25
47 | 240.95 | 203.45 | 273.65 | 639.50 | 316.25 | 357.35 | 286.95 | 533.00
48 | 244.10 | 205.60 | 277.60 | 649.75 | 321.00 | 363.20 | 291.30 | 541.75
49 | 247.25 | 207.75 | 281.55 | 660.00 | 325.75 | 369.05 | 295.65 | 550.50
50 | 250.40 | 209.90 | 285.50 | 670.25 | 330.50 | 374.90 | 300.00 | 559.25
51 | 253.55 | 212.05 | 289.45 | 680.50 | 335.25 | 380.75 | 304.35 | 568.00
52 | 256.70 | 214.20 | 293.40 | 690.75 | 340.00 | 386.60 | 308.70 | 576.75
53 | 259.85 | 216.35 | 297.35 | 701.00 | 344.75 | 392.45 | 313.05 | 585.50
54 | 263.00 | 218.50 | 301.30 | 711.25 | 349.50 | 398.30 | 317.40 | 594.25
55 | 266.15 | 220.65 | 305.25 | 721.50 | 354.25 | 404.15 | 321.75 | 603.00
56 | 269.30 | 222.80 | 309.20 | 731.75 | 359.00 | 410.00 | 326.10 | 611.75
57 | 272.45 | 224.95 | 313.15 | 742.00 | 363.75 | 415.85 | 330.45 | 620.50
58 | 275.60 | 227.10 | 317.10 | 752.25 | 368.50 | 421.70 | 334.80 | 629.25
59 | 278.75 | 229.25 | 321.05 | 762.50 | 373.25 | 427.55 | 339.15 | 638.00
60 | 281.90 | 231.40 | 325.00 | 772.75 | 378.00 | 433.40 | 343.50 | 646.75
61 | 285.05 | 233.55 | 328.95 | 783.00 | 382.75 | 439.25 | 347.85 | 655.50
62 | 288.20 | 235.70 | 332.90 | 793.25 | 387.50 | 445.10 | 352.20 | 664.25
63 | 291.35 | 237.85 | 336.85 | 803.50 | 392.25 | 450.95 | 356.55 | 673.00
64 | 294.50 | 240.00 | 340.80 | 813.75 | 397.00 | 456.80 | 360.90 | 681.75
65 | 297.65 | 242.15 | 344.75 | 824.00 | 401.75 | 462.65 | 365.25 | 690.50
66 | 300.80 | 244.30 | 348.70 | 834.25 | 406.50 | 468.50 | 369.60 | 699.25
67 | 303.95 | 246.45 | 352.65 | 844.50 | 411.25 | 474.35 | 373.95 | 708.00
68 | 307.10 | 248.60 | 356.60 | 854.75 | 416.00 | 480.20 | 378.30 | 716.75
69 | 310.25 | 250.75 | 360.55 | 865.00 | 420.75 | 486.05 | 382.65 | 725.50
70 | 313.40 | 252.90 | 364.50 | 875.25 | 425.50 | 491.90 | 387.00 | 734.25

Global Express Guaranteed Commercial Base Prices
Maximum weight (pounds) | Country price group: 1 ($) | Country price group: 2 ($) | Country price group: 3 ($) | Country price group: 4 ($) | Country price group: 5 ($) | Country price group: 6 ($) | Country price group: 7 ($) | Country price group: 8 ($)
0.5 | 44.00 | 45.00 | 52.00 | 90.00 | 56.68 | 57.17 | 54.56 | 64.23
1 | 59.52 | 60.66 | 65.21 | 103.05 | 71.18 | 68.69 | 65.35 | 77.85
2 | 63.05 | 64.60 | 71.91 | 115.88 | 78.84 | 74.79 | 71.28 | 91.13
3 | 67.57 | 70.56 | 78.62 | 128.70 | 85.73 | 81.86 | 76.82 | 104.40
4 | 70.81 | 74.79 | 85.32 | 141.53 | 93.15 | 88.92 | 82.70 | 117.68
5 | 72.63 | 80.24 | 92.03 | 154.35 | 100.58 | 95.99 | 89.28 | 130.95
6 | 76.14 | 84.69 | 96.57 | 165.83 | 105.75 | 102.15 | 94.29 | 142.43
7 | 79.70 | 89.15 | 101.12 | 177.30 | 110.93 | 108.32 | 98.82 | 153.90
8 | 83.25 | 93.60 | 105.66 | 188.78 | 116.10 | 114.48 | 103.59 | 165.38
9 | 86.81 | 98.06 | 110.21 | 200.25 | 121.28 | 120.65 | 108.50 | 176.85
10 | 90.36 | 102.51 | 114.75 | 211.73 | 126.45 | 126.81 | 113.40 | 188.33
11 | 93.92 | 105.35 | 118.31 | 223.20 | 130.73 | 132.08 | 117.32 | 196.20
12 | 97.47 | 108.18 | 121.86 | 234.68 | 135.00 | 137.34 | 121.23 | 204.08
13 | 101.03 | 111.02 | 125.42 | 246.15 | 139.28 | 142.61 | 125.15 | 211.95
14 | 104.58 | 113.85 | 128.97 | 257.63 | 143.55 | 147.87 | 129.06 | 219.83
15 | 108.14 | 116.69 | 132.53 | 269.10 | 147.83 | 153.14 | 132.98 | 227.70
16 | 111.69 | 119.52 | 136.08 | 280.58 | 152.10 | 158.40 | 136.89 | 235.58
17 | 115.25 | 122.36 | 139.64 | 292.05 | 156.38 | 163.67 | 140.81 | 243.45
18 | 118.80 | 125.19 | 143.19 | 303.53 | 160.65 | 168.93 | 144.72 | 251.33
19 | 122.36 | 128.03 | 146.75 | 315.00 | 164.93 | 174.20 | 148.64 | 259.20
20 | 125.91 | 130.86 | 150.30 | 326.48 | 169.20 | 179.46 | 152.81 | 267.08
21 | 129.47 | 132.80 | 153.86 | 335.70 | 173.48 | 184.73 | 156.47 | 274.95
22 | 133.02 | 134.73 | 157.41 | 344.93 | 177.75 | 189.99 | 160.38 | 282.83
23 | 136.58 | 136.67 | 160.97 | 354.15 | 182.03 | 195.26 | 164.30 | 290.70
24 | 140.13 | 138.60 | 164.52 | 363.38 | 186.30 | 200.52 | 168.21 | 298.58
25 | 143.69 | 140.54 | 168.08 | 372.60 | 190.58 | 205.79 | 172.13 | 306.45
26 | 147.24 | 142.47 | 171.63 | 381.83 | 194.85 | 211.05 | 176.04 | 314.33
27 | 150.80 | 144.41 | 175.19 | 391.05 | 199.13 | 216.32 | 179.96 | 322.20
28 | 154.35 | 146.34 | 178.74 | 400.28 | 203.40 | 221.58 | 183.87 | 330.08
29 | 157.91 | 148.28 | 182.30 | 409.50 | 207.68 | 226.85 | 187.79 | 337.95
30 | 161.46 | 150.21 | 185.85 | 418.73 | 211.95 | 232.11 | 191.70 | 345.83
31 | 165.02 | 152.15 | 189.41 | 427.95 | 216.23 | 237.38 | 195.62 | 353.70
32 | 168.57 | 154.08 | 192.96 | 437.18 | 220.50 | 242.64 | 199.53 | 361.58
33 | 172.13 | 156.02 | 196.52 | 446.40 | 224.78 | 247.91 | 203.45 | 369.45
34 | 175.68 | 157.95 | 200.07 | 455.63 | 229.05 | 253.17 | 207.36 | 377.33
35 | 179.24 | 159.89 | 203.63 | 464.85 | 233.33 | 258.44 | 211.28 | 385.20
36 | 182.79 | 161.82 | 207.18 | 474.08 | 237.60 | 263.70 | 215.19 | 393.08
37 | 186.35 | 163.76 | 210.74 | 483.30 | 241.88 | 268.97 | 219.11 | 400.95
38 | 189.90 | 165.69 | 214.29 | 492.53 | 246.15 | 274.23 | 223.02 | 408.83
39 | 193.46 | 167.63 | 217.85 | 501.75 | 250.43 | 279.50 | 226.94 | 416.70
40 | 197.01 | 169.56 | 221.40 | 510.98 | 254.70 | 284.76 | 230.85 | 424.58
41 | 199.85 | 171.50 | 224.96 | 520.20 | 258.98 | 290.03 | 234.77 | 432.45
42 | 202.68 | 173.43 | 228.51 | 529.43 | 263.25 | 295.29 | 238.68 | 440.33
43 | 205.52 | 175.37 | 232.07 | 538.65 | 267.53 | 300.56 | 242.60 | 448.20
44 | 208.35 | 177.30 | 235.62 | 547.88 | 271.80 | 305.82 | 246.51 | 456.08
45 | 211.19 | 179.24 | 239.18 | 557.10 | 276.08 | 311.09 | 250.43 | 463.95
46 | 214.02 | 181.17 | 242.73 | 566.33 | 280.35 | 316.35 | 254.34 | 471.83
47 | 216.86 | 183.11 | 246.29 | 575.55 | 284.63 | 321.62 | 258.26 | 479.70
48 | 219.69 | 185.04 | 249.84 | 584.78 | 288.90 | 326.88 | 262.17 | 487.58
49 | 222.53 | 186.98 | 253.40 | 594.00 | 293.18 | 332.15 | 266.09 | 495.45
50 | 225.36 | 188.91 | 256.95 | 603.23 | 297.45 | 337.41 | 270.00 | 503.33
51 | 228.20 | 190.85 | 260.51 | 612.45 | 301.73 | 342.68 | 273.92 | 511.20
52 | 231.03 | 192.78 | 264.06 | 621.68 | 306.00 | 347.94 | 277.83 | 519.08
53 | 233.87 | 194.72 | 267.62 | 630.90 | 310.28 | 353.21 | 281.75 | 526.95
54 | 236.70 | 196.65 | 271.17 | 640.13 | 314.55 | 358.47 | 285.66 | 534.83
55 | 239.54 | 198.59 | 274.73 | 649.35 | 318.83 | 363.74 | 289.58 | 542.70
56 | 242.37 | 200.52 | 278.28 | 658.58 | 323.10 | 369.00 | 293.49 | 550.58
57 | 245.21 | 202.46 | 281.84 | 667.80 | 327.38 | 374.27 | 297.41 | 558.45
58 | 248.04 | 204.39 | 285.39 | 677.03 | 331.65 | 379.53 | 301.32 | 566.33
59 | 250.88 | 206.33 | 288.94 | 686.25 | 335.93 | 384.80 | 305.24 | 574.20
60 | 253.71 | 208.26 | 292.50 | 695.48 | 340.20 | 390.06 | 309.15 | 582.08
61 | 256.55 | 210.20 | 296.05 | 704.70 | 344.48 | 395.33 | 313.07 | 589.95
62 | 259.38 | 212.13 | 299.61 | 713.93 | 348.75 | 400.59 | 316.98 | 597.83
63 | 262.22 | 214.07 | 303.16 | 723.15 | 353.03 | 405.86 | 320.90 | 605.70
64 | 265.05 | 216.00 | 306.72 | 732.38 | 357.30 | 411.12 | 324.81 | 613.58
65 | 267.89 | 217.94 | 310.27 | 741.60 | 361.58 | 416.39 | 328.73 | 621.45
66 | 270.72 | 219.87 | 313.83 | 750.83 | 365.85 | 421.65 | 332.64 | 629.33
67 | 273.56 | 221.81 | 317.38 | 760.05 | 370.13 | 426.92 | 336.56 | 637.20
68 | 276.39 | 223.74 | 320.94 | 769.28 | 374.40 | 432.18 | 340.47 | 645.08
69 | 279.23 | 225.68 | 324.49 | 778.50 | 378.68 | 437.45 | 344.39 | 652.95
70 | 282.06 | 227.61 | 328.05 | 787.73 | 382.95 | 442.71 | 348.30 | 660.83

Global Express Guaranteed Commercial Plus Prices
Maximum weight (pounds) | Country price group: 1 ($) | Country price group: 2 ($) | Country price group: 3 ($) | Country price group: 4 ($) | Country price group: 5 ($) | Country price group: 6 ($) | Country price group: 7 ($) | Country price group: 8 ($)
0.5 | 41.38 | 42.46 | 46.46 | 83.00 | 49.30 | 49.76 | 47.29 | 57.89
1 | 52.58 | 53.91 | 60.13 | 95.04 | 65.36 | 62.46 | 58.00 | 71.80
2 | 56.27 | 58.93 | 66.32 | 106.86 | 72.21 | 68.97 | 63.08 | 84.04
3 | 59.97 | 63.95 | 72.50 | 118.69 | 79.06 | 75.49 | 68.31 | 96.28
4 | 63.66 | 68.97 | 78.68 | 130.52 | 85.91 | 82.00 | 75.03 | 108.52
5 | 66.94 | 73.99 | 84.87 | 142.35 | 92.75 | 88.52 | 81.96 | 120.77
6 | 70.22 | 78.10 | 89.06 | 152.93 | 97.53 | 94.21 | 86.49 | 131.35
7 | 73.50 | 82.21 | 93.25 | 163.51 | 102.30 | 99.89 | 91.01 | 141.93
8 | 76.78 | 86.32 | 97.44 | 174.09 | 107.07 | 105.58 | 95.53 | 152.51
9 | 80.05 | 90.43 | 101.63 | 184.68 | 111.84 | 111.26 | 100.06 | 163.10
10 | 83.33 | 94.54 | 105.83 | 195.26 | 116.62 | 116.95 | 104.58 | 173.68
11 | 86.61 | 97.15 | 109.10 | 205.84 | 120.56 | 121.80 | 108.19 | 180.94
12 | 89.89 | 99.77 | 112.38 | 216.42 | 124.50 | 126.66 | 111.80 | 188.20
13 | 93.17 | 102.38 | 115.66 | 227.01 | 128.44 | 131.51 | 115.41 | 195.47
14 | 96.45 | 105.00 | 118.94 | 237.59 | 132.39 | 136.37 | 119.02 | 202.73
15 | 99.72 | 107.61 | 122.22 | 248.17 | 136.33 | 141.22 | 122.63 | 209.99
16 | 103.00 | 110.22 | 125.50 | 258.75 | 140.27 | 146.08 | 126.24 | 217.25
17 | 106.28 | 112.84 | 128.77 | 269.34 | 144.21 | 150.94 | 129.85 | 224.52
18 | 109.56 | 115.45 | 132.05 | 279.92 | 148.16 | 155.79 | 133.46 | 231.78
19 | 112.84 | 118.07 | 135.33 | 290.50 | 152.10 | 160.65 | 137.07 | 239.04
20 | 116.12 | 120.68 | 138.61 | 301.08 | 156.04 | 165.50 | 140.69 | 246.30
21 | 119.40 | 122.47 | 141.89 | 309.59 | 159.98 | 170.36 | 144.30 | 253.57
22 | 122.67 | 124.25 | 145.17 | 318.10 | 163.93 | 175.21 | 147.91 | 260.83
23 | 125.95 | 126.04 | 148.45 | 326.61 | 167.87 | 180.07 | 151.52 | 268.09
24 | 129.23 | 127.82 | 151.72 | 335.11 | 171.81 | 184.92 | 155.13 | 275.35
25 | 132.51 | 129.60 | 155.00 | 343.62 | 175.75 | 189.78 | 158.74 | 282.62
26 | 135.79 | 131.39 | 158.28 | 352.13 | 179.70 | 194.64 | 162.35 | 289.88
27 | 139.07 | 133.17 | 161.56 | 360.64 | 183.64 | 199.49 | 165.96 | 297.14
28 | 142.35 | 134.96 | 164.84 | 369.14 | 187.58 | 204.35 | 169.57 | 304.40
29 | 145.62 | 136.74 | 168.12 | 377.65 | 191.52 | 209.20 | 173.18 | 311.67
30 | 148.90 | 138.53 | 171.40 | 386.16 | 195.47 | 214.06 | 176.79 | 318.93
31 | 152.18 | 140.31 | 174.67 | 394.67 | 199.41 | 218.91 | 180.40 | 326.19
32 | 155.46 | 142.10 | 177.95 | 403.17 | 203.35 | 223.77 | 184.01 | 333.45
33 | 158.74 | 143.88 | 181.23 | 411.68 | 207.29 | 228.62 | 187.62 | 340.72
34 | 162.02 | 145.67 | 184.51 | 420.19 | 211.24 | 233.48 | 191.23 | 347.98
35 | 165.29 | 147.45 | 187.79 | 428.70 | 215.18 | 238.33 | 194.84 | 355.24
36 | 168.57 | 149.23 | 191.07 | 437.20 | 219.12 | 243.19 | 198.45 | 362.50
37 | 171.85 | 151.02 | 194.34 | 445.71 | 223.06 | 248.05 | 202.06 | 369.77
38 | 175.13 | 152.80 | 197.62 | 454.22 | 227.01 | 252.90 | 205.67 | 377.03
39 | 178.41 | 154.59 | 200.90 | 462.73 | 230.95 | 257.76 | 209.28 | 384.29
40 | 181.69 | 156.37 | 204.18 | 471.23 | 234.89 | 262.61 | 212.90 | 391.55
41 | 184.30 | 158.16 | 207.46 | 479.74 | 238.83 | 267.47 | 216.51 | 398.82
42 | 186.92 | 159.94 | 210.74 | 488.25 | 242.78 | 272.32 | 220.12 | 406.08
43 | 189.53 | 161.73 | 214.02 | 496.76 | 246.72 | 277.18 | 223.73 | 413.34
44 | 192.15 | 163.51 | 217.29 | 505.26 | 250.66 | 282.03 | 227.34 | 420.60
45 | 194.76 | 165.29 | 220.57 | 513.77 | 254.60 | 286.89 | 230.95 | 427.87
46 | 197.37 | 167.08 | 223.85 | 522.28 | 258.55 | 291.75 | 234.56 | 435.13
47 | 199.99 | 168.86 | 227.13 | 530.79 | 262.49 | 296.60 | 238.17 | 442.39
48 | 202.60 | 170.65 | 230.41 | 539.29 | 266.43 | 301.46 | 241.78 | 449.65
49 | 205.22 | 172.43 | 233.69 | 547.80 | 270.37 | 306.31 | 245.39 | 456.92
50 | 207.83 | 174.22 | 236.97 | 556.31 | 274.32 | 311.17 | 249.00 | 464.18
51 | 210.45 | 176.00 | 240.24 | 564.82 | 278.26 | 316.02 | 252.61 | 471.44
52 | 213.06 | 177.79 | 243.52 | 573.32 | 282.20 | 320.88 | 256.22 | 478.70
53 | 215.68 | 179.57 | 246.80 | 581.83 | 286.14 | 325.73 | 259.83 | 485.97
54 | 218.29 | 181.36 | 250.08 | 590.34 | 290.09 | 330.59 | 263.44 | 493.23
55 | 220.90 | 183.14 | 253.36 | 598.85 | 294.03 | 335.44 | 267.05 | 500.49
56 | 223.52 | 184.92 | 256.64 | 607.35 | 297.97 | 340.30 | 270.66 | 507.75
57 | 226.13 | 186.71 | 259.91 | 615.86 | 301.91 | 345.16 | 274.27 | 515.02
58 | 228.75 | 188.49 | 263.19 | 624.37 | 305.86 | 350.01 | 277.88 | 522.28
59 | 231.36 | 190.28 | 266.47 | 632.88 | 309.80 | 354.87 | 281.49 | 529.54
60 | 233.98 | 192.06 | 269.75 | 641.38 | 313.74 | 359.72 | 285.11 | 536.80
61 | 236.59 | 193.85 | 273.03 | 649.89 | 317.68 | 364.58 | 288.72 | 544.07
62 | 239.21 | 195.63 | 276.31 | 658.40 | 321.63 | 369.43 | 292.33 | 551.33
63 | 241.82 | 197.42 | 279.59 | 666.91 | 325.57 | 374.29 | 295.94 | 558.59
64 | 244.44 | 199.20 | 282.86 | 675.41 | 329.51 | 379.14 | 299.55 | 565.85
65 | 247.05 | 200.98 | 286.14 | 683.92 | 333.45 | 384.00 | 303.16 | 573.12
66 | 249.66 | 202.77 | 289.42 | 692.43 | 337.40 | 388.86 | 306.77 | 580.38
67 | 252.28 | 204.55 | 292.70 | 700.94 | 341.34 | 393.71 | 310.38 | 587.64
68 | 254.89 | 206.34 | 295.98 | 709.44 | 345.28 | 398.57 | 313.99 | 594.90
69 | 257.51 | 208.12 | 299.26 | 717.95 | 349.22 | 403.42 | 317.60 | 602.17
70 | 260.12 | 209.91 | 302.53 | 726.46 | 353.17 | 408.28 | 321.21 | 609.43

1. No additional discount is offered for Commercial Base or Commercial Plus.

BILLING CODE 7710-12-P

BILLING CODE 7710-12-C

2315 Outbound Priority Mail International

* * * * *

2315.2 Size and Weight Limitations ¹ ²

* * * * *

2315.4 Price Categories

The following price categories are available for the product specified in this section:

• Commercial Base—For selected destination countries, available for customers who prepare and pay for Priority Mail International shipments via permit imprint when used in conjunction with Postal Service-supplied software and Customs-related functions, online at USPS.com, or by using an authorized PC Postage. The discount applies only to the postage portion of Priority Mail International prices.

• Commercial Plus—For selected destination countries, available for customers who use specifically authorized postage payment methods and must tender at least $100,000 per year of any combination of Priority Mail International, Express Mail International, or Global Express Guaranteed items. The discount applies only to the postage portion of Express Mail International prices.

* * * * *

2315.7 Prices

2320 International Priority Airmail (IPA)

* * * * *

2320.6 Prices

International Priority Airmail

The price is determined by adding the applicable per-piece price to the applicable per-pound price. The per-piece price applies to each mailpiece regardless of weight. The per-pound price applies to the net weight (gross weight of the sack minus the tare weight of the sack or tray) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($)
Direct Country Sacks | 0.51 | 0.16 | 0.52 | 0.53 | 0.52 | 0.52 | 0.53 | 0.51

| 9 ($) | 10 ($) | 11 ($) | 12 ($) | 13 ($) | 14 ($) | 15 ($) |
Direct Country Sacks | 0.42 | 0.47 | 0.48 | 0.18 | 0.18 | 0.18 | 0.14 |
Mixed Country Sacks |  |  | 0.51 | 0.19 | 0.19 | 0.19 | 0.16 |

ii. Per Pound

| Price group: 1 ($) | Price group: 2 ($) | Price group: 3 ($) | Price group: 4 ($) | Price group: 5 ($) | Price group: 6 ($) | Price group: 7 ($) | Price group: 8 ($)
Direct Country Sacks (Full Service) | 6.03 | 7.37 | 7.58 | 7.92 | 7.72 | 7.66 | 7.65 | 7.52
Direct Country Sacks (ISC Drop Shipment) | 4.09 | 4.62 | 5.63 | 5.96 | 5.78 | 5.71 | 5.72 | 5.58

| 9 ($) | 10 ($) | 11 ($) | 12 ($) | 13 ($) | 14 ($) | 15 ($) |
Direct Country Sacks (Full Service) | 8.37 | 7.80 | 8.03 | 7.63 | 8.48 | 8.15 | 9.14 |
Direct Country Sacks (ISC Drop Shipment) | 6.27 | 5.85 | 5.80 | 5.69 | 5.60 | 6.21 | 7.20 |
Mixed Country Sacks (ISC Drop Shipment) |  |  | 6.10 | 5.98 | 5.89 | 6.53 | 7.56 |

b. Worldwide Nonpresort Mail (Full Service and ISC Drop Shipment)

i. Per Piece

| ($)
Worldwide Nonpresorted Sacks | 0.57

ii. Per Pound

| ($)
Worldwide Nonpresorted Sacks (Full Service) | 10.56
Worldwide Nonpresorted Sacks (ISC Drop Shipment) | 8.32

International Priority Airmail M-Bag

The price is based on the applicable per-pound price. The per-pound price applies to the net weight (gross weight of the sack minus the tare weight of the sack) of the mail for the specific Country Price Group.

2325 International Surface Air Lift (ISAL)

* * * * *

2325.6 Prices

International Surface Air Lift (Full Service and ISC Drop Shipment)

The price is determined by adding the applicable per-piece price to the applicable per-pound price. The per-piece price applies to each mailpiece regardless of weight. The per-pound price applies to the net weight (gross weight of the sack minus the tare weight of the sack) of the mail for the specific price group.

i. Per Piece

| Price group: 1 ($) | Price group: 2 ($) | Price group: 3 ($) | Price group: 4 ($) | Price group: 5 ($) | Price group: 6 ($) | Price group: 7 ($) | Price group: 8 ($)
Direct Country Sacks | 0.45 | 0.14 | 0.46 | 0.47 | 0.46 | 0.46 | 0.46 | 0.45

| 9 ($) | 10 ($) | 11 ($) | 12 ($) | 13 ($) | 14 ($) | 15 ($)
Direct Country Sacks | 0.37 | 0.41 | 0.43 | 0.16 | 0.16 | 0.16 | 0.13
Mixed Country Sacks | — | — | 0.45 | 0.17 | 0.17 | 0.17 | 0.14

ii. Per Pound

| Price group: 1 ($) | Price group: 2 ($) | Price group: 3 ($) | Price group: 4 ($) | Price group: 5 ($) | Price group: 6 ($) | Price group: 7 ($) | Price group: 8 ($)
Direct Country Sacks (Full Service) | 5.31 | 6.49 | 6.67 | 6.97 | 6.79 | 6.74 | 6.74 | 6.62
Direct Country Sacks (ISC Drop Shipment) | 3.60 | 4.07 | 4.96 | 5.25 | 5.08 | 5.03 | 5.03 | 4.91

| 9 ($) | 10 ($) | 11 ($) | 12 ($) | 13 ($) | 14 ($) | 15 ($)
Direct Country Sacks (Full Service) | 7.37 | 6.87 | 7.06 | 6.71 | 7.47 | 7.17 | 8.04
Direct Country Sacks (ISC Drop Shipment) | 5.52 | 5.15 | 5.11 | 5.00 | 4.93 | 5.47 | 6.33
Mixed Country Sacks (ISC Drop Shipment) | — | — | 5.36 | 5.26 | 5.18 | 5.75 | 6.65

b. Worldwide Nonpresort Mail (Full Service and ISC Drop Shipment)

i. Per Piece

| ($)
Worldwide Nonpresorted Sacks | 0.50

ii. Per Pound

| ($)
Worldwide Nonpresorted Sacks (Full Service) | 9.30
Worldwide Nonpresorted Sacks (ISC Drop Shipment) | 7.32

International Surface Air Lift M-Bags

The price is based on the applicable per-pound price. The per-pound price applies to the net weight (gross weight of the sack minus the tare weight of the sack) of the mail for the specific price group.

2330 International Direct Sacks—M-Bags

* * * * *

2330.6 Prices

Outbound International Direct Sacks—M-Bags

The price is based on the applicable per-pound price. The per-pound price applies to the net weight (gross weight of the sack minus the tare weight of the sack) of the mail for the specific price group.

2600 Special Services

* * * * *

2600.2 Products Included in Class

* * * * *

* * * * *

• Competitive Ancillary Services (2645)

○ Adult Signature Service (2645.1)

○ Package Intercept Service (2645.2)

* * * * *

* * * * *

2610 Greeting Cards and Stationery

* * * * *

2610.2 Prices ¹

| ($)
Greeting Cards | 0.99 to 25.00
Stationery | 0.10 to 75.99
Notes:
¹ Minimum price applies to average price paid per item when multiple items are purchased together.

* * * * *

* * * * *

2615 International Ancillary Services

* * * * *

2615.1 International Certificate of Mailing

* * * * *

2615.1.2 Prices

Individual Pieces Prices

| ($)
Original certificate of mailing for listed pieces of ordinary Priority Mail International parcels | 1.15
Three or more pieces individually listed in a firm mailing book or an approved customer provided manifest (per piece) | 0.44
Each additional copy of original certificate of mailing or firm mailing bills (each copy) | 1.15

Multiple Pieces Prices

Identical pieces of ordinary Single-Piece First-Class Mail International paid with regular stamps, precanceled stamps, or meter stamps are subject to the following fees:

| ($)
Up to 1,000 pieces (one certificate for total number) | 6.70
Each additional 1,000 pieces or fraction | 0.80
Duplicate copy | 1.15

2615.2 Outbound Competitive International Registered Mail

* * * * *

2615.2.2 Prices

| ($)
Per Piece | 11.75

2615.3 International Return Receipt

* * * * *

2615.3.2 Prices

Outbound International Return Receipt

| ($)
Per Piece | 2.35

* * * * *

2615.4 International Restricted Delivery

* * * * *

2615.4.2 Prices

| ($)
Per Piece | 4.55

2615.5 International Insurance

* * * * *

2615.5.3 Prices

Outbound International Insurance

a. Priority Mail International Insurance

Indemnity limit not over ($) | Price ($)
50 | 2.45
100 | 3.60
200 | 4.75
300 | 5.90
400 | 7.05
500 | 8.20
600 | 9.35
700 | 10.50
Over 700 | 10.50 plus 1.15 for each 100.00 or fraction thereof over 700.00. Maximum indemnity varies by country.

b. Express Mail International Merchandise Insurance

| ($) |  | ($) | ($)
Amount of coverage:
| 0.01 | to | 100.00 | 0.00
| 100.01 | to | 200.00 | 0.85
| 200.01 | to | 500.00 | 2.35
| 500.01 | to | 1,000.00 | 3.85
| 1,000.01 | to | 1,500.00 | 5.35
| 1,500.01 | to | 2,000.00 | 6.85
| 2,000.01 | to | 2,500.00 | 8.35
| 2,500.01 | to | 3,000.00 | 9.85
| 3,000.01 | to | 3,500.00 | 11.35
| 3,500.01 | to | 4,000.00 | 12.85
| 4,000.01 | to | 4,500.00 | 14.35
| 4,500.01 | to | 5,000.00 | 15.85

* * * * *

2615.6 Custom Clearance and Delivery Fee

* * * * *

2615.6.2 Prices

| ($)
Per Dutiable Item | 5.50

2620 International Money Transfer Service—Outbound

* * * * *

2620.3 Prices

International Money Order

| ($)
Per International Money Order | 4.45
Inquiry Fee | 5.50

* * * * *

2630 Premium Forwarding Service

* * * * *

2630.2 Prices

| ($)
Enrollment | 15.00
Weekly Reshipment | 15.25

2635 Shipping and Mailing Supplies

* * * * *

2635.2 Prices ¹

| ($)
Mailers | 0.39 to 25.00
Cartons | 0.99 to 25.00
Supplies | 0.49 to 14.65
Notes:
¹ Minimum price applies to average price paid per item when multiple items are purchased together.

2640 Post Office Box Service

2640.1 Description

* * *

2640.3 Prices

Postal Facilities Primarily Serving Academic Institutions or Their Students

Period of box use (days) | Price
95 or less | ½ semiannual price.
96 to 140 | ¾ semiannual price
141 to 190 | Semiannual price.
191 to 230 | 1¼ semiannual price.
231 to 270 | 1½ semiannual price.
271 to full year | Two times semiannual price.

Ancillary Post Office Box Services

| ($)
Key duplication or replacement | (²)
Lock replacement | (²)
Key deposit ¹ | (²)
NOTE: Notes
1 Key deposit only applies to additional keys or replacement keys.
2 Prices and deposit amount specified for market dominant Post Office Box service (section 1550.3) apply.

2645 Competitive Ancillary Services

* * * * *

2645.2 Package Intercept Service

2645.2.1 Description

a. Package Intercept service allows a customer to request that the Postal Service intercept the customer's mail at the destination delivery unit based on the initial delivery address.

b. Intercepted packages can be: (1) Returned to sender; (2) held for pick up; or (3) redirected to an alternate domestic address. Intercepted packages will be shipped using Priority Mail.

c. Package Intercept service is available with First-Class Mail, Package Services, Express Mail, Priority Mail, and Parcel Select.

2645.2.2 Prices

| ($)
Package Intercept Service | 10.95

Part D

Country Price Lists For International Mail

4000 Country Price Lists for International Mail

Country | Market dominant: SPFCMI ¹ | Competitive: International expedited Services: GXG ² | Competitive: International expedited Services: EMI ³ | Competitive: International packages: PMI ⁴ | Competitive: IPA & ISAL ⁵
* * * * * * *
Tonga | 6 | 4 | 6 | 6 | 14

* * * * *

Certification of Governors' Vote In the Governors' Decision No. 11-8

I hereby certify that the Governors voted on adopting Governors' Decision No. 11-8, and that, consistent with 39 U.S.C. 3632(a), a majority of the Governors then holding office concurred in the Decision.

Dated: October 18, 2011.

Julie S. Moore,

Secretary of the Board of Governors.

[FR Doc. 2011-30789 Filed 12-1-11; 8:45 am]

BILLING CODE 7710-12-P